DEPARTMENT OF THE INTERIOR

Fish and Wildlife Service

50 CFR Part 17

[Docket No. FWS-R4-ES-2014-0057; 4500030113]

RIN 1018-AZ92

Endangered and Threatened Wildlife and Plants; Designation of Critical Habitat for Consolea corallicola (Florida Semaphore Cactus) and Harrisia aboriginum (Aboriginal Prickly-Apple)

AGENCY: Fish and Wildlife Service, Interior.

ACTION: Final rule.

SUMMARY: We, the U.S. Fish and Wildlife Service, designate critical habitat for Consolea corallicola (Florida semaphore cactus) and Harrisia aboriginum (aboriginal prickly-apple) under the Endangered Species Act (Act). In total, approximately 4,411 acres (1,785 hectares) for Consolea corallicola in Miami-Dade and Monroe Counties, Florida; and 3,444 acres (1,394 hectares) for Harrisia aboriginum in Manatee, Charlotte, Sarasota, and Lee Counties, Florida, fall within the boundaries of the critical habitat designations.

DATES: This rule becomes effective on February 22, 2016.

ADDRESSES: This final rule is available on the internet at http://www.regulations.gov and http://www.fws.gov/verobeach/. Comments and materials we received, as well as some supporting documentation we used in preparing this rule, are available for public inspection at http://www.regulations.gov. All of the comments, materials, and documentation that we considered in this rulemaking are available by appointment, during normal business hours at the South Florida Ecological Services Office (see FOR FURTHER INFORMATION CONTACT).

The coordinates, plot points, or both from which the maps are generated are included in the administrative record for this critical habitat designation and are available at http://www.fws.gov/verobeach/, at http://www.regulations.gov at Docket No. FWS-R4-ES-2014-0057, and at the South Florida Ecological Services Office (see FOR FURTHER INFORMATION CONTACT). Any additional tools or supporting information that we developed for this critical habitat designation will also be available at the U.S. Fish and Wildlife Service Web site and Field Office listed above, and may also be included in the preamble and/or at http://www.regulations.gov.

FOR FURTHER INFORMATION CONTACT: Roxanna Hinzman, Field Supervisor, U.S. Fish and Wildlife Service, South Florida Ecological Services Office, 1339 20th Street, Vero Beach, FL 32960; by telephone 772-562-3909; or by facsimile 772-562-4288. If you use a telecommunications device for the deaf (TDD), call the Federal Information Relay Service (FIRS) at 800-877-8339.

SUPPLEMENTARY INFORMATION:

Executive Summary

Why we need to publish a rule. Under the Endangered Species Act of 1973, as amended (16 U.S.C. 1531 et seq.) (Act), when we determine that any species is threatened or endangered, we must designate critical habitat, to the maximum extent prudent and determinable. Designations of critical habitat can be completed only by issuing a rule.

This rule consists of: A final rule designating critical habitat for two endangered plant species, Consolea corallicola and Harrisia aboriginum.

We have prepared an economic analysis of the designations. In order to consider economic impacts, we prepared an incremental effects memorandum (IEM) and screening analysis which, together with our narrative and interpretation of effects, we consider our draft economic analysis (DEA) of the proposed critical habitat designation and related factors. The analysis, dated October 15, 2014, was made available for public review from January 22, 2015, through March 23, 2015 (80 FR 3316). The DEA addressed probable economic impacts of critical habitat designation for Consolea corallicola and Harrisia aboriginum. We did not receive any comments regarding the DEA; therefore, we consider the October 15, 2014, DEA, our IEM, and narrative interpretation of the effects to be the final economic analysis.

Peer review and public comment. We sought comments from three independent specialists to ensure that our designation is based on scientifically sound data and analyses. We obtained opinions from two of the independent specialists with scientific expertise to review our technical assumptions, analysis, and whether or not we had used the best available information. These peer reviewers generally concurred with our methods and conclusions and provided additional information, clarifications, and suggestions to improve this final rule. Information we received from peer review did not result in changes to the proposed designation. We also considered all comments and information received from the public during the comment period.

Previous Federal Actions

Previous Federal actions for Consolea corallicola and Harrisia aboriginum are outlined in our proposed and final rules to list both species as endangered species published in the Federal Register on October 11, 2012 (77 FR 61836), and October 24, 2013 (78 FR 63796), respectively.

Summary of Comments and Recommendations

We requested written comments from the public on the proposed designation of critical habitat for Consolea corallicola and Harrisia aboriginum and the associated DEA with the publication of the proposed rule to designate critical habitat that published January 22, 2015 (80 FR 3316). The comment period opened on January 22, 2015, and closed on March 23, 2015. We did not receive any requests for a public hearing. We also contacted appropriate Federal, State, and local agencies; scientific organizations; and other interested parties and invited them to comment on the proposed rule and DEA during the comment period.

We received four comment letters directly addressing the proposed critical habitat designation. All substantive information provided during the comment period is addressed below.

Peer Review

In accordance with our peer review policy published on July 1, 1994 (59 FR 34270), we solicited expert opinions from three knowledgeable individuals with scientific expertise that included familiarity with the species, the geographic region in which the species occurs, and conservation biology principles. We received responses from two of the peer reviewers.

Both peer reviewers noted that the proposal was comprehensive and that the data which the Service relied upon to delineate critical habitat was sound. Peer reviewers did not provide any new information that would necessitate changes to the final rule. Peer reviewer comments are addressed in the following summary.

Peer Reviewer Comments

(1) Comment: The proposed rule references a population within John Pennekamp Coral Reef State Park. This population was planted by park staff and is, therefore, considered cultivated as there is no documentation that supports Consolea corallicola occurring historically within the park.

Our Response: The proposed rule did not identify a population of Consolea corallicola within John Pennekamp Coral Reef State Park since the Service was unaware that C. corallicola was planted at this location. Although individuals of listed plant species receive protection under section 7 of the Act regardless of whether they were translocated (planted) or originated naturally, designation of critical habitat at John Pennekamp Coral Reef State Park does not mandate the Florida Park Service to manage the habitat or reintroduce C. corallicola in the areas identified. John Pennekamp Coral Reef State Park is located within critical habitat unit FSC2 that also contains Dagny Johnson Botanical State Park where the plant is known to occur. Critical habitat units for this species are delineated by the presence of suitable habitat conditions that promote survival and expansion of populations into the future and are not required to be completely occupied by the species at the time of listing.

(2) Comment: One peer reviewer noted that the Florida Natural Areas Inventory (FNAI), Guide to the natural communities of Florida: 2010 edition contains a “new” natural community, designated as Keys Cactus Barren that occurs in the Florida Keys on Key Largo limestone. This may be another natural community that C. corallicola uses or may be reintroduced or otherwise assisted in its migration. However, the Keys Cactus Barren is so “new” that it has not been mapped out or identified properly like the other natural communities that were designated in the 1990 FNAI Guide to the natural communities of Florida. It may be useful for those active in the conservation of C. corallicola to identify and map Keys cactus barren within critical habitat areas that are being proposed.

Our Response: The Service agrees that, while no historical wild populations were reported from Keys cactus barren habitat, it is likely to be a suitable habitat type for Consolea corallicola because it is an open canopy habitat with many of the same associated species found in rockland hammock or buttonwood forest. The ecology of Keys cactus barrens remains poorly understood, in particular, how they arise and what processes maintain them. While areas of Keys cactus barren habitat are not delineated in the data we utilized, the habitat type occurs largely as inclusions within rockland hammock, coastal berm, or buttonwood forest. Since these habitats were included in the proposal, it is likely that many unmapped Keys cactus barren areas are included in the final critical habitat designation.

(3) Comment: One peer reviewer stated that proper management of individual plants and their habitat may prove to be very expensive and time demanding, requiring quarterly population monitoring to remove Cactoblastis cactorum larvae, and to control other native and nonnative plants and animals around individual plants.

Our Response: The Service agrees that conservation of these species will necessitate a commitment by the Service and our conservation partners. Nonnative plant and animal control is ongoing at some sites, and most populations are visited at least twice per year to monitor for Cactoblastis infestations. We welcome suggestions from stakeholders and partners on how to efficiently address the threat from C. cactorum moths.

(4) Comment: One peer reviewer suggested that reducing fuels around the cacti before prescribed fire and in case of wildfire may also need to be conducted in the event that prescribed or wild fire burns into the plants.

Our Response: The Service agrees that fuel reduction or other strategies are needed to reduce the risk of wild or prescribed fire escaping into areas supporting the two cacti. We discuss the risk of wildfire in this final rule, but we believe that emergency management actions that may be needed in the event of wildfire, such as clearing fuels around individual cacti, must take place on a case-by-case basis.

(5) Comment: One peer reviewer suggested that, in addition to using current aerial photography to identify critical habitat for these species, the Service should use historical aerial photography as well. The earliest possible aerials show the habitat as it was from the mid-1900s, when Florida was much different than it is today (more open), and will lead to more effective identification of the natural communities the two cacti need.

Our Response: The Service has identified critical habitat areas that are suitable for the two species based largely on current habitat conditions, and to a much lesser extent, areas that could be suitable if they undergo restoration (see Criteria Used to Identify Critical Habitat sections for each species). We attempted to designate a critical habitat unit for each current and historical population on record. In some areas of these species' range, dense development and concomitant lack of large natural areas are the primary limiting factor to the size of the critical habitat units. While historical aerial imagery would help us understand past habitat conditions and perhaps identify some areas lost to disrupted ecology or nonnative species, we believe the improvement to this critical habitat designation would be negligible because the main limiting factor for these species is habitat loss due to development and sea level rise, rather than due to lack of natural disturbance and active management.

Comments From the State

Section 4(b)(5)(A)(ii) of the Act requires the Secretary to give actual notice of any regulation proposed thereunder to the State agency in each State in which the species occur, and to invite comments. Comments received from the State regarding the proposal to designate critical habitat for Consolea corallicola and Harrisia aboriginum are addressed below.

(6) Comment: The Florida Department of Agriculture and Consumer Services' Division of Plant Industry (FDACS-DPI), which maintains Florida's list of threatened, endangered, and economically exploited species under Florida's native plant protection statute (Chapter 5B-40 Preservation of Native Flora of Florida), stated that it supports the designation of critical habitat for Consolea corallicola and Harrisia aboriginum. The commenter stated that habitat at the highest available elevation will be important to avoid possible inundation from storms and sea level rise.

Our Response: The Service appreciates FDACS-DPI support of the critical habitat designation. We agree that habitats at higher elevations are important for reducing the vulnerability of these two plants to storm surge and sea level rise. A significant portion of the total critical habitat designation for Consolea corallicola is on Key Largo, which contains the vast majority of the relatively high elevations within the species' historical range. However, we did not include the highest elevation in the Florida Keys (located on Windley Key) because there is no record of C. corallicola on the island. The critical habitat designation for Harrisia aboriginum includes higher elevation coastal berms and shell mounds. Shell mounds are often several meters above sea level. Other areas with higher elevation do not contain the associated species, vegetation structure, and disturbance regime suitable for Harrisia aboriginum.

Summary of Changes From Proposed Rule

Public and peer review comments did not necessitate any changes to the final rule.

Summary of Biological Status for Consolea corallicola and Harrisia aboriginum

For more information on Consolea corallicola and Harrisia aboriginum taxonomy, life history, habitat, population descriptions, and factors affecting the species, please refer to the proposed listing rule published October 11, 2012 (77 FR 61836), the final listing rule published October 24, 2013 (78 FR 63796), and the proposed rule to designate critical habitat published January 22, 2015 (80 FR 3316).

Critical Habitat

Background

Critical habitat is defined in section 3 of the Act as:

(1) The specific areas within the geographical area occupied by the species, at the time it is listed in accordance with the Act, on which are found those physical or biological features

(a) Essential to the conservation of the species, and

(b) Which may require special management considerations or protection; and

(2) Specific areas outside the geographical area occupied by the species at the time it is listed, upon a determination that such areas are essential for the conservation of the species.

Conservation, as defined under section 3 of the Act, means to use and the use of all methods and procedures that are necessary to bring an endangered or threatened species to the point at which the measures provided pursuant to the Act are no longer necessary. Such methods and procedures include, but are not limited to, all activities associated with scientific resources management such as research, census, law enforcement, habitat acquisition and maintenance, propagation, live trapping, and transplantation, and, in the extraordinary case where population pressures within a given ecosystem cannot be otherwise relieved, may include regulated taking.

Critical habitat receives protection under section 7 of the Act through the requirement that Federal agencies ensure, in consultation with the Service, that any action they authorize, fund, or carry out is not likely to result in the destruction or adverse modification of critical habitat. The designation of critical habitat does not affect land ownership or establish a refuge, wilderness, reserve, preserve, or other conservation area. Such designation does not allow the government or public to access private lands. Such designation does not require implementation of restoration, recovery, or enhancement measures by non-Federal landowners. Where a landowner requests Federal agency funding or authorization for an action that may affect a listed species or critical habitat, the consultation requirements of section 7(a)(2) of the Act would apply, but even in the event of a destruction or adverse modification finding, the obligation of the Federal action agency and the landowner is not to restore or recover the species, but to implement reasonable and prudent alternatives to avoid destruction or adverse modification of critical habitat.

Under the first prong of the Act's definition of critical habitat, areas within the geographical area occupied by the species at the time it was listed are included in a critical habitat designation if they contain physical or biological features (1) which are essential to the conservation of the species and (2) which may require special management considerations or protection. For these areas, critical habitat designations identify, to the extent known using the best scientific and commercial data available, those physical or biological features that are essential to the conservation of the species (such as space, food, cover, and protected habitat). In identifying those physical or biological features within an area, we focus on the principal biological or physical constituent elements (primary constituent elements such as roost sites, nesting grounds, seasonal wetlands, water quality, tide, soil type) that are essential to the conservation of the species. Primary constituent elements are those specific elements of the physical or biological features that provide for a species' life-history processes and are essential to the conservation of the species.

Under the second prong of the Act's definition of critical habitat, we may designate critical habitat in areas outside the geographical area occupied by the species at the time it is listed, upon a determination that such areas are essential for the conservation of the species. For example, an area currently occupied by the species but that was not occupied at the time of listing may be essential for the conservation of the species and may be included in the critical habitat designation. We designate critical habitat in areas outside the geographical area occupied by a species only when a designation limited to its range would be inadequate to ensure the conservation of the species.

Section 4 of the Act requires that we designate critical habitat on the basis of the best scientific and commercial data available. Further, our Policy on Information Standards Under the Endangered Species Act (published in the Federal Register on July 1, 1994 (59 FR 34271)), the Information Quality Act (section 515 of the Treasury and General Government Appropriations Act for Fiscal Year 2001 (Pub. L. 106-554; H.R. 5658)), and our associated Information Quality Guidelines, provide criteria, establish procedures, and provide guidance to ensure that our decisions are based on the best scientific data available. They require our biologists, to the extent consistent with the Act and with the use of the best scientific data available, to use primary and original sources of information as the basis for recommendations to designate critical habitat.

When we are determining which areas should be designated as critical habitat, our primary source of information is generally the information developed during the listing process for the species. Additional information sources may include, but are not limited to, the recovery plan for the species, articles in peer-reviewed journals, conservation plans developed by States and counties, scientific status surveys and studies, biological assessments, other unpublished materials, or experts' opinions or personal knowledge.

Habitat is dynamic, and species may move from one area to another over time. We recognize that critical habitat designated at a particular point in time may not include all of the habitat areas that we may later determine are necessary for the recovery of the species. For these reasons, a critical habitat designation does not signal that habitat outside the designated area is unimportant or may not be needed for recovery of the species. Areas that are important to the conservation of the species, both inside and outside the critical habitat designation, will continue to be subject to: (1) Conservation actions implemented under section 7(a)(1) of the Act, (2) regulatory protections afforded by the requirement in section 7(a)(2) of the Act for Federal agencies to ensure their actions are not likely to jeopardize the continued existence of any endangered or threatened species, and (3) section 9 of the Act's prohibitions on taking any individual of the species, including taking caused by actions that affect habitat. Federally funded or permitted projects affecting listed species outside their designated critical habitat areas may still result in jeopardy findings in some cases. These protections and conservation tools will continue to contribute to recovery of Consolea corallicola and Harrisia aboriginum. Similarly, critical habitat designations made on the basis of the best available information at the time of designation will not control the direction and substance of future recovery plans, habitat conservation plans (HCPs), or other species conservation planning efforts if new information available at the time of these planning efforts calls for a different outcome.

Physical or Biological Features

In accordance with sections 3(5)(A)(i) and 4(b)(1)(A) of the Act and regulations at 50 CFR 424.12(b), in determining which areas within the geographical area occupied by the species at the time of listing may be designated as critical habitat, we consider the physical or biological features that are essential to the conservation of the species and which may require special management considerations or protection. These include, but are not limited to:

(1) Space for individual and population growth and for normal behavior;

(2) Food, water, air, light, minerals, or other nutritional or physiological requirements;

(3) Cover or shelter;

(4) Sites for breeding, reproduction, or rearing (or development) of offspring; and

(5) Habitats that are protected from disturbance or are representative of the historical geographic and ecological distributions of a species.

We derive the specific physical or biological features essential to Consolea corallicola and Harrisia aboriginum from studies of the species' habitat, ecology, and life history as described below. Additional information on these cacti can be found in the proposed and final listing rules. We have determined that the following physical or biological features are essential to the conservation of Consolea corallicola.

Consolea corallicola

Space for Individual and Population Growth and for Normal Behavior

Plant Community and Competitive Ability. Consolea corallicola occurs in communities classified as coastal berm, buttonwood forests, and rockland hammocks restricted to the Florida Keys. These communities and their associated native plant species are described in the Status Assessment for Consolea corallicola in the proposed and final listing rules. These habitats and their associated plant communities provide vegetation structure that allows for adequate growing space, sunlight, and a competitive regime that is required for C. corallicola to persist and spread. Therefore, based on the information above, we identify upland habitats consisting of coastal berm, rockland hammock, and buttonwood forest to be a physical or biological feature for C. corallicola.

Food, Water, Air, Light, Minerals, or Other Nutritional or Physiological Requirements

Climate (temperature and precipitation). Consolea corallicola requires adequate rainfall and does not tolerate prolonged freezing temperatures. The climate of south Florida where C. corallicola occurs is characterized by distinct wet and dry seasons, a monthly mean temperature above 18 °C (64.4 °F) in every month of the year, and annual rainfall averaging 75 to 150 cm (30 to 60 inches (in)) (Gabler et al. 1994, p. 211). Freezes can occur in the winter months, but are very infrequent at this latitude in Florida. Therefore, based on the information above, we determined this type of climate to be a physical or biological feature for C. corallicola.

Soils. Substrates supporting Consolea corallicola include loose sediment formed by a mixture of coarse sand, shell fragments, pieces of coralline algae, and other coastal debris, exposed bare limestone rock or with a thin layer of leaf litter or highly organic soil (Bradley and Gann 1999, p. 37; FNAI 2010a, b, and c, p. 1; FNAI 2010d,e, p. 2). These substrates provide anchoring spots, nutrients, moisture regime, and suitable soil chemistry for C. corallicola; and facilitate a community of associated plant species that create a competitive regime that allows C. corallicola to persist and spread. Therefore, based on the information above, we identify substrates derived from calcareous sand or limestone that provide anchoring and nutritional requirements to be a physical or biological feature for C. corallicola.

Hydrology. The species requires coastal berms and buttonwood forests that occur at an elevation higher than the daily tidal range, but are subject to flooding by seawater during extreme tides and storm surge (FNAI 2010b, p. 2; FNAI 2010c, p. 2). This flooding helps to limit the variety of plants that may grow in these habitats and compete with Consolea corallicola. Rockland hammocks occur on high ground that does not regularly flood, but this habitat is often dependent upon a high water table to keep humidity levels high, and may be inundated during storm surges (FNAI 2010e, p. 2). Therefore, based on the information above, we identify rockland hammock habitat with groundwater levels needed to maintain humidity and buttonwood and coastal berm habitat inundated by storm surge or tidal events at a frequency and duration needed to limit plant species competition while not creating overly saline conditions to be a physical or biological feature for C. corallicola.

Cover or Shelter

Consolea corallicola occurs in open canopy and semi-open to closed canopy habitats. The spatial and temporal distribution of open canopy areas varies by habitat type and time since the last disturbance, such as a hurricane, caused canopy openings. In rockland hammocks, suitable sites will often be found near the hammock edge or where there are openings in the forest canopy. More open communities (e.g., coastal berm and buttonwood forests) provide more abundant and temporally consistent suitable habitat than communities capable of establishing a dense canopy (e.g., hardwood hammocks). Therefore, based on the information above, we identify habitats that have a vegetation composition and structure that allows for adequate sunlight and space for individual growth and population expansion to be a physical or biological feature for C. corallicola.

Sites for Breeding, Reproduction, or Rearing (or Development) of Offspring

The habitats identified above as physical or biological features also provide a plant community with associated plant species that foster a competitive regime suitable to Consolea corallicola and contain adequate open space for the recruitment of new plants. Associated plant species in these habitats attract and provide cover for generalist pollinators (e.g., bees, butterflies, and beetles) that pollinate C. corallicola.

Habitats Protected From Disturbance or Representative of the Historical, Geographic, and Ecological Distributions of the Species

Consolea corallicola continues to occur in habitats that are protected from human-generated disturbances and are representative of the species' historical, geographical, and ecological distribution although its range has been reduced. The species is still found in coastal berm, buttonwood forest, and rockland hammocks. As described above, these habitats provide a community of associated plant and animal species that are compatible with C. corallicola, vegetation structure that provides adequate sunlight levels and open space for plant growth and regeneration, and substrates with adequate moisture availability and suitable soil chemistry. Representative communities are located on Federal, State, local, and private conservation lands that implement conservation measures benefitting the species. Therefore, based on the information above, we identify habitat of sufficient size and connectivity that can support species growth, distribution, and population expansion to be physical or biological features for C. corallicola.

Disturbance Regime. Coastal berm, buttonwood forest, and rockland hammock habitats that could or currently support Consolea corallicola depend on natural disturbance regimes from hurricanes or tidal inundation to open the canopy in order to provide light levels sufficient to support the species. The historical frequency and magnitude of hurricanes and tidal inundation has allowed for the persistence of C. corallicola by occasionally creating areas of open canopy. In the absence of disturbance, some of these habitats may have closed canopies, resulting in areas lacking enough available sunlight to support C. corallicola. However, too frequent or severe disturbance that transitions the habitat toward more saline conditions could result in the decline of the species in the area. Therefore, based on the information above, we identify habitats that have disturbance regimes, including hurricanes, and infrequent inundation events that maintain habitat suitability to be physical or biological features for C. corallicola.

Primary Constituent Elements for Consolea corallicola

Under the Act and its implementing regulations, we are required to identify the physical or biological features essential to the conservation of Consolea corallicola in areas occupied at the time of listing, focusing on the features' primary constituent elements. Primary constituent elements are those specific elements of the physical or biological features that provide for a species' life-history processes and are essential to the conservation of the species.

Based on our current knowledge of the physical or biological features and habitat characteristics required to sustain the species' life-history processes, we determine that the primary constituent elements specific to Consolea corallicola are:

(i) Areas of upland habitats consisting of coastal berm, rockland hammocks, and buttonwood forest.

(A) Coastal berm habitat that contains:

(1) Open to semi-open canopy, subcanopy, and understory; and

(2) Substrate of coarse, calcareous, and storm-deposited sediment.

(B) Rockland hammock habitat that contains:

(1) Canopy gaps and edges with an open to semi-open canopy, subcanopy, and understory; and

(2) Substrate with a thin layer of highly organic soil covering limestone or organic matter that accumulates on top of the limestone.

(C) Buttonwood forest habitat that contains:

(1) Open to semi-open canopy and understory; and

(2) Substrate with calcareous marl muds, calcareous sands, or limestone rock.

(ii) A plant community of predominately native vegetation with no invasive, nonnative animal or plant species or such species in quantities low enough to have minimal effect on survival of Consolea corallicola.

(iii) A disturbance regime, due to the effects of strong winds or saltwater inundation from storm surge or infrequent tidal inundation, that creates canopy openings in coastal berm, rockland hammocks, and buttonwood forest.

(iv) Habitats that are connected and of sufficient size to sustain viable populations in coastal berm, rockland hammocks, and buttonwood forest.

(v) Habitats that provide populations of the generalist pollinators that visit the flowers of Consolea corallicola.

Special Management Considerations or Protection for Consolea corallicola

When designating critical habitat, we assess whether the specific areas within the geographic area occupied by the species at the time of listing contain features which are essential to the conservation of the species and which may require special management considerations or protection.

Special management considerations or protection are necessary throughout the critical habitat units to avoid further degradation or destruction of the habitat that provides those features essential to the species' conservation. The primary threats to the physical or biological features that Consolea corallicola depends on include:

(1) Habitat destruction and modification by development and sea level rise;

(2) Competition with nonnative, invasive plant and animal species;

(3) Wildfire; and

(4) Hurricanes and storm surge.

Some of these threats can be addressed by special management considerations or protection, while others (e.g., sea level rise, hurricanes, storm surge) are beyond the control of landowners and managers. However, even when landowners or land managers may not be able to control all the threats, they may be able to address the results of the threats.

Proposed Actions To Ameliorate Threats

The following measures or management activities can ameliorate threats to Consolea corallicola:

(1) Protecting habitats from residential, commercial, or recreational facility development;

(2) Avoiding ditching or filling that may alter hydrological conditions;

(3) Nonnative plant and animal species control programs to reduce competition and predation and prevent habitat degradation; and

(4) Hardwood reduction to maintain the open vegetation structure of the species' habitats.

The reduction of these threats will require the implementation of special management actions within each of the critical habitat areas identified in this final rule. All critical habitat units will need management to address the ongoing threats listed above and those presented in the Summary of Factors Affecting the Species sections in the proposed and final listing rules.

Ongoing Actions To Ameliorate Threats

The Service, National Park Service (NPS), State of Florida, Miami-Dade and Monroe Counties, and several local governments own and manage conservation lands within the range of Consolea corallicola. The Nature Conservancy purchased Torchwood Hammock Preserve on Little Torch Key in 1988, to protect what was at the time the only known remaining population of C. corallicola. The comprehensive conservation plan (CCP) for the Lower Florida Keys National Wildlife Refuges (National Key Deer Refuge, Key West National Wildlife Refuge, and Great White Heron National Wildlife Refuge) and Crocodile Lake National Wildlife Refuge promote the enhancement of wildlife populations by maintaining and enhancing a diversity and abundance of habitats for native plants and animals, especially imperiled species that are found only in the Florida Keys. This CCP provides specifically for maintaining and expanding populations of C. corallicola.

NPS regulations at 36 CFR 2.1 prohibit visitors from harming or removing plants, listed or otherwise, from Everglades National Park (ENP) or Biscayne National Park (BNP). Consolea corallicola is listed on the Regulated Plant Index as endangered under chapter 5B-40, Florida Administrative Code. Florida Statutes 581.185 sections (3)(a) and (b) prohibit any person from willfully destroying or harvesting any species listed as endangered or threatened on the Regulated Plant Index, or growing such a plant on the private land of another, or on any public land, without first obtaining the written permission of the landowner and a permit from the Florida Department of Plant Industry.

The Service, NPS, State of Florida, Miami-Dade and Monroe Counties, and several local governments conduct nonnative species control efforts on sites that support or have suitable habitat for C. corallicola. The introduced Cactoblastis moth (Cactoblastis cactorum) infests C. corallicola plants and may cause mortality. We consider the moth to be a major threat to the species. Monitoring for Cactoblastis moth infestations, and hand removal efforts of the moth larvae and eggs are conducted at BNP and Torchwood Hammock Preserve in an effort to protect C. corallicola. No satisfactory method of large-scale control for the Cactoblastis moth is known at this time. The U.S. Department of Agriculture (USDA) Agricultural Research Service's Center for Medical, Agricultural, and Veterinary Entomology in Tallahassee, Florida, is developing containment methods to control the spread of the Cactoblastis moth (USDA 2006, p. 9).

Reintroductions of Consolea corallicola have been implemented at several locations on State and Federal lands in the Florida Keys over the past 15 years. Attempts at reintroduction implemented in the 1990s were largely unsuccessful due to poor site selection, Cactoblastis moth predation, crown rot, and burial of small plants by leaf litter. It is too early to judge the results of more recent reintroductions that were implemented in 2013 and 2014. Reintroduction of C. corallicola serves multiple objectives towards the plant's conservation, including increasing the number of populations to address the threat of few, small populations; establishing populations across a wider geographic area to reduce the chance that all populations will be affected by natural disturbances, such as hurricanes and storm surge events; and establishing populations at higher elevation sites that will be less vulnerable to storm surge events and sea level rise. Assisted migration to higher elevations at existing sites may be needed in the future to conserve populations if the area supporting the existing population shows indications of increased soil salinity and population decline due to sea level rise.

Criteria Used To Identify Critical Habitat for Consolea corallicola

As required by section 4(b)(2) of the Act, we use the best scientific data available to designate critical habitat. In accordance with the Act and our implementing regulations at 50 CFR 424.12(b), we review available information pertaining to the habitat requirements of the species and identify occupied areas at the time of listing that contain the features essential to the conservation of the species. If, after identifying currently occupied areas, a determination is made that those areas are inadequate to ensure conservation of the species, in accordance with the Act and our implementing regulations at 50 CFR 424.12(e), we then consider whether designating additional areas—outside those currently occupied—are essential for the conservation of the species.

We are designating critical habitat units throughout the historical range of Consolea corallicola. The species currently occupies all of the islands of the Florida Keys where it was recorded historically. We determined that there is no unoccupied habitat that is essential for the conservation of the species. Therefore, we are only designating critical habitat in areas within the geographical area presently occupied by the species (i.e., occupied at the time of listing).

The wild populations of Consolea corallicola are much reduced (50 percent) from the species' historical distribution, and one of the two remaining wild populations is small, consisting of only 12 mature plants. The habitats required by C. corallicola are severely fragmented by development in the Florida Keys. We anticipate that recovery will require continued protection of the remaining extant populations and habitat, augmenting existing small populations, and establishing populations in additional areas to more closely approximate its historical distribution in order to ensure there are adequate numbers of plants in stable populations and that these populations occur over a wide geographic area. This will help to ensure that catastrophic events, such as storms, cannot simultaneously affect all known populations.

Small plant populations with limited, fragmented distributions, such as Consolea corallicola, are vulnerable to relatively minor environmental disturbances (Frankham 2005, pp. 135-136) that could result in the loss of genetic diversity from genetic drift, the random loss of genes, and inbreeding (Ellstrand and Elam 1993, pp. 217-237; Leimu et al. 2006, pp. 942-952). Plant populations with lowered genetic diversity are more prone to local extinction (Barrett and Kohn 1991, pp. 4, 28). Smaller plant populations generally have lower genetic diversity, and lower genetic diversity may in turn lead to even smaller populations by decreasing the species' ability to adapt, thereby increasing the probability of population extinction (Newman and Pilson 1997, p. 360; Palstra and Ruzzante 2008, pp. 3428-3447). Because of the dangers associated with small populations or limited distributions, the recovery of many rare plant species includes the creation of new sites or reintroductions to ameliorate these effects.

Habitat fragmentation can have negative effects on populations, especially rare plants, and can affect survival and recovery (Aguilar et al. 2006, pp. 968-980; Aguilar et al. 2008, pp. 5177-5188; Potts et al. 2010, pp. 345-352). In general, habitat fragmentation causes habitat loss, habitat degradation, habitat isolation, changes in species composition, changes in species interactions, increased edge effects, and reduced habitat connectivity (Fahrig 2003, pp. 487-515; Fischer and Lindenmayer 2007, pp. 265-280). Habitat fragments are often functionally smaller than they appear because edge effects (such as increased nonnative, invasive species or wind speeds) impact the available habitat within the fragment (Lienert and Fischer 2003, p. 597).

In selecting areas for critical habitat designation, we utilized the Shaffer and Stein (2000) methodology for conserving imperiled species known as the `three Rs': Representation, resiliency, and redundancy. Representation, or preserving some of everything, means conserving not just a species but its associated plant communities. Resiliency and redundancy ensure there is enough of a species so it can survive into the future. Resiliency means ensuring that the habitat is adequate for a species and its representative components. Redundancy ensures an adequate number of sites and individuals. This methodology has been widely accepted as a reasonable conservation strategy (Tear et al. 2005, p. 841).

We have addressed representation through the primary constituent elements (as discussed above) and by identifying areas of habitat for the expansion of Consolea corallicola populations. There are only approximately 800 to 1,000 known individuals and only 6 populations. All but 2 populations consist of fewer than 100 individuals (low redundancy). All populations occur on small islands where the amount of suitable remaining habitat is limited (low resiliency), and much of the remaining habitat may be lost to sea level rise over the next century.

Sources of Data To Identify Critical Habitat Boundaries

To determine the location and boundaries of critical habitat, the Service used the following sources of information and considerations:

(1) Florida Natural Areas Inventory (FNAI) population records and ArcGIS geographic information system software to spatially depict the location and extent of documented populations of Consolea corallicola (FNAI 2011a, pp. 1-4);

(2) Reports prepared by botanists with the Institute for Regional Conservation (IRC), NPS, and Florida Department of Environmental Protection (FDEP) (Some of these were funded by the Service; others were requested or volunteered by biologists with the NPS or FDEP.);

(3) Historical records found in reports and associated voucher specimens housed at herbaria, all of which are referenced in the above-mentioned reports from the IRC and FNAI;

(4) Digitally produced habitat maps provided by Monroe County; and

(5) Aerial images of Miami-Dade and Monroe Counties. The presence of primary constituent elements was determined through the use of GIS spatial data depicting the current habitat status. These habitat data for the Florida Keys were developed by Monroe County from 2006 aerial images, and ground conditions for many areas were checked in 2009. Habitat data for BNP were provided by the NPS. The areas that contain the primary constituent elements follow predictable landscape patterns and have a recognizable signature in the aerial imagery.

We have identified areas to include in this designation by applying the following considerations. The amount and distribution of critical habitat being designated allows existing and future established populations of Consolea corallicola to:

(1) Maintain their existing distribution;

(2) Expand their distribution into previously occupied areas (needed to offset habitat loss and fragmentation);

(3) Use habitat depending on habitat availability (response to changing nature of coastal habitat including sea level rise) and support genetic diversity;

(4) Increase the size of each population to a level where the threats of genetic, demographic, and normal environmental uncertainties are diminished; and

(5) Maintain their ability to withstand local or unit-level environmental fluctuations or catastrophes.

Areas Occupied at the Time of Listing

The critical habitat designation for Consolea corallicola focuses on areas within the historical range that were occupied at the time the species was listed and have retained the necessary primary constituent elements that will allow for the maintenance and expansion of existing populations. The critical habitat units were delineated around documented extant populations. These units include the mapped extent of the population that contains one or more of the physical or biological features. We considered the following when identifying occupied areas of critical habitat:

(1) The delineation included space to allow for the successional nature of the occupied habitats (i.e., gain and loss of areas with sufficient light availability due to disturbance of the tree canopy driven by natural events such as inundation and hurricanes), and habitat transition or loss due to sea level rise.

(2) Some areas will require special management to be able to support a higher density of the plant within the occupied space. These areas generally are habitats where some of the primary constituent elements have been lost through natural or human causes. These areas would help to offset the anticipated loss and degradation of habitat occurring or expected from the effects of climate change (such as sea level rise) or due to development.

When determining critical habitat boundaries within this final rule, we made every effort to avoid including developed areas such as lands covered by buildings, pavement, and other structures because such lands lack physical or biological features for Consolea corallicola. The scale of the maps we prepared under the parameters for publication within the Code of Federal Regulations may not reflect the exclusion of such developed lands. Any such lands inadvertently left inside critical habitat boundaries shown on the maps of this final rule have been excluded by text in the rule and are not designated as critical habitat. Therefore, a Federal action involving these lands would not trigger section 7 consultation with respect to critical habitat and the requirement of no adverse modification unless the specific action would affect the physical or biological features in the adjacent critical habitat.

Units were designated based on sufficient elements of physical or biological features being present to support Consolea corallicola life-history processes. Some units contained all of the identified elements of physical or biological features and supported multiple life-history processes. Some segments contained only some elements of the physical or biological features necessary to support C. corallicola's particular use of that habitat.

The critical habitat designation is defined by the map or maps, as modified by any accompanying regulatory text, presented at the end of this document in the rule portion. We include more detailed information on the boundaries of the critical habitat designation in the preamble of this document. We will make the coordinates, plot points, or both on which each map is based available to the public on http://www.regulations.gov at Docket No. FWS-R4-ES-2014-0057, on our Internet site at http://www.fws.gov/verobeach/, and at the field office responsible for the designation (see FOR FURTHER INFORMATION CONTACT above).

Critical Habitat Designation for Consolea corallicola

We are designating four units as critical habitat for Consolea corallicola. The critical habitat areas we describe below constitute our current best assessment of areas that meet the definition of critical habitat for C. corallicola. The four areas we designate as critical habitat are:

(1) FSC1 Swan Key in Biscayne National Park, Miami-Dade County, Florida;

(2) FSC2 Key Largo, Monroe County, Florida;

(3) FSC3 Big Pine Key, Monroe County, Florida; and

(4) FSC4 Little Torch Key in Monroe County, Florida.

Land ownership within the designated critical habitat consists of Federal (28 percent), State (58 percent), County (1 percent), and private and other (14 percent). Table 1 shows these units by land ownership, area, and occupancy.

Table 1—Consolea Corallicola Critical Habitat Units
[All areas rounded to the nearest whole acre (ac) and hectare (ha)]
Unit | Total ac (ha) | Federal ac (ha) | State ac (ha) | County ac (ha) | Private/other ac (ha) | Occupied
FSC1—Swan Key—Biscayne National Park | 37 (15) | 37 (15) | 0 | 0 | 0 | Yes.
FSC2—Key Largo | 3,434 (1,389) | 702 (284) | 2,331 (943) | 17 (7) | 384 (155) | Yes.
FSC3--Big Pine Key | 772 (313) | 508 (205) | 172 (70) | 11 (5) | 81 (33) | Yes.
FSC4—Little Torch Key | 168 (68) | 0 | 47 (19) | 10 (4) | 111 (45) | Yes.
Total | 4,411 (1,785) | 1,247 (504) | 2,550 (1,032) | 38 (16) | 576 (233) |
Percent of Total | 100 | 28 | 58 | 1 | 13 |
Note: Area sizes may not sum due to rounding.

Two (FSC1 and FSC2) of the four critical habitat units designated for Consolea corallicola are also currently designated under the Act as critical habitat for the American crocodile (Crocodylus acutus), and two (FSC2 and FSC3) are designated as critical habitat units for Chromolaena frustrata (Cape Sable thoroughwort).

We present brief descriptions of all units, and reasons why they meet the definition of critical habitat for Consolea corallicola, below.

Unit FSC1: Swan Key—Biscayne National Park, Miami-Dade County, Florida

Unit FSC1 consists of approximately 37 ac (15 ha) in Miami-Dade County. This unit is composed entirely of lands in Federal ownership, 100 percent of which are located on Swan Key within Biscayne National Park. The unit includes all upland rockland hammock habitat on Swan Key, most of which is located on the eastern side of Swan Key, surrounded by the island's mangrove fringe. A second, smaller area is located on the island's elongate western half and is also surrounded by mangroves.

This unit was occupied at the time the species was listed and contains all the physical or biological features, including suitable climate, hydrology, substrate, associated native plant species, and disturbance regimes, essential to the conservation of the species and the coastal hardwood hammock and buttonwood forest primary constituent elements. The physical or biological features in this unit may require special management considerations or protection to address threats of nonnative plant and animal species and sea level rise. However, in most cases these threats are being addressed or coordinated with BNP to implement needed actions. BNP conducts nonnative species control on Swan Key and monitors Consolea corallicola for population trends and Cactoblastis moth damage. The NPS is currently revising the BNP General Management Plan (Plan), which identifies C. corallicola but does not discuss specific conservation measures. However, the Plan states that Swan Key will continue to be a “sensitive resource area” and managed to protect critical ecosystems, habitats, and natural processes. Access will be tightly controlled and limited to permitted research activities. In addition, the Service believes assisted migration to the highest elevations on Swan Key on BNP may be needed in the future to conserve the population if the area supporting the existing population shows indications of increased soil salinity and population decline due to sea level rise.

Unit FSC2: Key Largo, Monroe County, Florida

Unit FSC2 consists of approximately 3,434 ac (1,389 ha) in Monroe County. This unit is composed of Federal lands within Crocodile Lake National Wildlife Refuge (NWR) (702 ac (284 ha)); State lands within Dagny Johnson Botanical State Park, John Pennekamp Coral Reef State Park, and the Florida Keys Wildlife and Environmental Area (2,331 ac (943 ha)); lands owned by Monroe County (17 ac (7 ha)); and parcels in private or other ownership (384 ac (155 ha)). This unit extends from near the northern tip of Key Largo, along the length of Key Largo, beginning at the south shore of Ocean Reef Harbor near South Marina Drive and the intersection of County Road (CR) 905 and Clubhouse Road on the west side of CR 905, and between CR 905 and Old State Road 905, then extending to the shoreline south of South Harbor Drive. The unit then continues on both sides of CR 905 through the Crocodile Lake NWR, Dagny Johnson Key Largo Hammock Botanical State Park, and John Pennekamp Coral Reef State Park. The unit then terminates near the junction of U.S. 1 and CR 905 and Garden Cove Drive. The unit resumes on the east side of U.S. 1 from South Andros Road to Key Largo Elementary; then from the intersection of Taylor Drive and Pamela Street to Avenue A; then from Sound Drive to the intersection of Old Road and Valencia Road; then resumes on the east side of U.S. 1 from Hibiscus Lane and Ocean Drive. The unit continues south near the Port Largo Airport from Poisonwood Road to Bo Peep Boulevard. The unit resumes on the west side of U.S. 1 from the intersection of South Drive and Meridian Avenue to Casa Court Drive. The unit then continues on the west side of U.S. 1 from the point on the coast directly west of Peace Avenue south to Caribbean Avenue. The unit also includes a portion of El Radabob Key in Largo Sound located directly east of Avenue A, extending south to a point directly east of Mahogany Drive.

This unit was occupied at the time the species was listed and contains all the physical or biological features, including suitable climate, hydrology, substrate, associated native plant species, and disturbance regimes, essential to the conservation of the species and the rockland hammock and buttonwood forest primary constituent elements. The physical or biological features in this unit may require special management considerations or protection to address threats of nonnative plant species and sea level rise. The CCP for Crocodile Lake NWR promotes the enhancement of wildlife populations by maintaining and enhancing a diversity and abundance of habitats for native plants and animals, especially imperiled species that are found only in the Florida Keys, but does not identify Consolea corallicola because it does not presently occur on the Refuge. The Management Plan for Dagny Johnson Key Largo Hammock Botanical State Park calls for the protection and restoration of habitats and to continue conservation efforts already under way for C. corallicola. The Service and FDEP conduct nonnative species control on their respective lands on Key Largo. FDEP monitors the reintroduced C. corallicola at Dagny Johnson Key Largo Hammock Botanical State Park for population trends and Cactoblastis moth damage. In addition, assisted migration of the cacti to the highest elevations on these lands is needed because the population already shows the effects of increased soil salinity and is partially inundated by high tides.

Unit FSC3: Big Pine Key, Monroe County, Florida

Unit FSC3 consists of approximately 772 ac (313 ha) in Monroe County. This unit is composed of Federal land within the National Key Deer Refuge (NKDR) (508 ac (205 ha)); State land managed as part of the NKDR (172 ac (70 ha)); lands owned by Monroe County (11 ac (5 ha)); and parcels in private or other ownership (81 ac (33 ha)). This unit extends from near the northern tip of Big Pine Key along the eastern shore to the vicinity of Hellenga Drive and Watson Road; from Gulf Boulevard south to West Shore Drive; Big Pine Avenue and Elma Avenues on the east, Coral and Yacht Club Road, and U.S. 1 on the north, and Industrial Avenue on the east from the southeastern tip of Big Pine Key to Avenue A.

This unit was occupied at the time the species was listed and contains all the physical or biological features, including suitable climate, hydrology, substrate, associated native plant species, and disturbance regimes, essential to the conservation of the species and the coastal berm, rockland hammock, and buttonwood forest primary constituent elements. The physical or biological features in this unit may require special management considerations or protection to address threats of nonnative plant species and sea level rise. The CCP for the Lower Florida Keys NWRs (NKDR, Key West NWR, and Great White Heron NWR) promotes the enhancement of wildlife populations by maintaining and enhancing a diversity and abundance of habitats for native plants and animals, and provides specifically for maintaining and expanding populations of candidate plant species including C. corallicola. The Service conducts nonnative species control in areas that could support C. corallicola.

Unit FSC4: Little Torch Key, Monroe County, Florida

Unit FSC4 consists of approximately 168 ac (68 ha) in Monroe County. This unit is composed of State lands (47 ac (19 ha)); lands owned by Monroe County (10 ac (4 ha)); and parcels in private and other ownership (111 ac (45 ha)). This unit extends along State Highway 4A, from Coral Shores Road, south to County Road, resuming at Linda Street and extending south to the Overseas Highway. South of the Overseas Highway, the unit includes areas west of Kings Cove Road, and an area comprising the southern tip of Little Torch Key that includes portions of The Nature Conservancy's (TNC) John J. Pescatello Torchwood Hammock Preserve.

This unit was occupied at the time the species was listed and contains all the physical or biological features, including suitable climate, hydrology, substrate, associated native plant species, and disturbance regimes, essential to the conservation of the species and the coastal hardwood hammock and buttonwood forest primary constituent elements. The physical or biological features in this unit may require special management considerations or protection to address threats of nonnative plant species and sea level rise. TNC's 1994 Management Plan calls for monitoring, Cactoblastis control, vegetation management, and basic research on Consolea corallicola and threats to the species. TNC monitors C. corallicola at the Torchwood Hammock Preserve and conducts nonnative plant and animal species control. The Preserve is fenced, and potential visitors must request access to enter the site. Assisted migration to the highest elevations in the Preserve may be needed in the future to conserve the population if the area supporting the existing population shows indications of increased soil salinity and population decline due to sea level rise.

Physical or Biological Features for Harrisia aboriginum

We have determined that the following physical or biological features are essential to the conservation of Harrisia aboriginum.

Space for Individual and Population Growth and for Normal Behavior

Plant Community and Competitive Ability. Harrisia aboriginum occurs in communities classified as coastal strand, coastal grasslands, coastal berms, maritime hammocks, and shell mounds (Bradley et al. 2004, pp. 4, 14). Detailed descriptions of these communities and their associated native plant species are provided in the Status Assessment for Harrisia aboriginum section of the proposed and final listing rules. These habitats and their associated plant communities provide vegetation structure that provides adequate growing space, sunlight, and a competitive regime that is required for H. aboriginum to persist and spread. Therefore, based on the information above, we identify upland habitats consisting of coastal strand, coastal grasslands, coastal berms, maritime hammocks, and shell mounds to be a physical or biological feature for H. aboriginum.

Food, Water, Air, Light, Minerals, or Other Nutritional or Physiological Requirements

Climate (temperature and precipitation). Harrisia aboriginum requires adequate rainfall and does not tolerate freezing temperatures. The climate of south Florida where H. aboriginum occurs is characterized by distinct wet and dry seasons, a monthly mean temperature above 18 °C (64.4 °F) in every month of the year, and annual rainfall averaging 75 to 150 cm (30 to 60 in) (Gabler et al. 1994, p. 211). Freezes can occur in the winter months, but are very infrequent at this latitude in Florida. Therefore, based on the information above, we determined this type of climate to be a physical or biological feature for H. aboriginum.

Soils. Substrates supporting Harrisia aboriginum include sand and calcareous shell material (Bradley et al. 2004, pp. 4, 14). These substrates provide anchoring spots, nutrients, moisture regime, and suitable soil chemistry for H. aboriginum, and facilitate a community of associated plant species that create a competitive regime that allows H. aboriginum to persist and spread. Therefore, based on the information above, we identify substrates derived from calcareous sand or shell material to be a physical or biological feature for H. aboriginum.

Hydrology. Harrisia aboriginum requires upland habitats that occur above the daily tidal range, but are potentially subject to flooding by seawater during extreme tides and storm surge. H. aboriginum will not tolerate hydric or saline soils, and these soil conditions may also cause these habitats to transition to a community of species that will outcompete H. aboriginum for space. Maritime hammocks occur on high ground that does not regularly flood, but can be inundated during storm surges (FNAI 2010h, p. 3). Some sites that support H. aboriginum show indications that soil salinization is driving changes in the plant community toward salt-tolerant species, and will eventually lead to conditions unsuitable for H. aboriginum. Therefore, based on the information above, we identify upland habitats at elevations not affected by soil salinization due to sea level rise to be physical or biological features for H. aboriginum.

Cover or Shelter

Harrisia aboriginum occurs in open canopy and semi-open to closed canopy habitats. The amount and frequency of open canopy areas varies by habitat type and time since the last disturbance, such as a hurricane, caused canopy openings. In maritime hammocks, suitable areas will often be found near the hammock edge or where there are openings in the forest canopy. More open communities (e.g., coastal berm, coastal strand, and coastal grasslands) provide more abundant and temporally consistent suitable habitat than communities capable of establishing a dense canopy (e.g., maritime hammocks, shell mounds). Therefore, based on the information above, we identify habitats that have a vegetation composition and structure that allows for adequate sunlight and space for individual growth and population expansion to be a physical or biological feature for H. aboriginum.

Sites for Breeding, Reproduction, or Rearing (or Development) of Offspring

The habitats identified above as physical or biological features also provide a plant community with associated plant species that foster a competitive regime that is suitable for Harrisia aboriginum and contain adequate open space for the recruitment of new plants. Associated plant species in these habitats attract and provide cover for generalist pollinators (e.g., bees, butterflies, and beetles) that pollinate H. aboriginum.

Habitats Protected From Disturbance or Representative of the Historical, Geographic, and Ecological Distributions of the Species

Harrisia aboriginum continues to occur in habitats that are protected from human-generated disturbances and are representative of the species' historical, geographical, and ecological distribution although its range has been reduced. The species is still found in its representative plant communities of coastal strand, coastal grassland, coastal berm, maritime hammock, and shell mound habitat. As described above, these habitats provide a community of associated plant and animal species that are compatible with H. aboriginum, vegetation structure that provides adequate sunlight levels and open space for plant growth and regeneration, and substrates with adequate moisture availability and suitable soil chemistry. In addition, representative communities are located on Federal, State, local, and private conservation lands that implement conservation measures benefitting the species. Therefore, based on the information above, we identify habitat of sufficient size and connectivity that can support species growth, distribution, and population expansion to be a physical or biological feature for H. aboriginum.

Disturbance Regime. Coastal strand, coastal berm, coastal grassland, maritime hammock, and shell mound habitats that support Harrisia aboriginum depend on natural disturbance regimes from hurricanes or tidal inundation to reduce the canopy in order to provide light levels sufficient to support the species. The historical frequency and magnitude of hurricanes and tidal inundation has allowed for the persistence of H. aboriginum by occasionally creating areas of open canopy. In the absence of disturbance, some of these habitats may have closed canopies, resulting in areas lacking enough available sunlight to support H. aboriginum. However, too frequent or severe disturbance that transitions the habitat toward more saline conditions could result in the decline of the species in the area. In addition, fires are rare to nonexistent in coastal strand, coastal grassland, coastal berm, maritime hammocks, and shell mound communities (FNAI 2010a, p. 2; FNAI 2010f, p. 2; FNAI 2010g, p. 2; FNAI 2010h, p. 3; FNAI 2010i, p. 2). Therefore, based on the information above, we identify habitats that have disturbance regimes, including hurricanes, and infrequent inundation events that maintain the habitat suitability to be physical or biological features for H. aboriginum.

Primary Constituent Elements for Harrisia aboriginum

Based on our current knowledge of the physical or biological features and habitat characteristics required to sustain the species' life-history processes, we determine that the primary constituent elements specific to Harrisia aboriginum are:

(i) Areas of upland habitats consisting of coastal strand, coastal grassland, coastal berm, maritime hammocks, and shell mounds.

(A) Coastal strand habitat that contains:

(1) Open to semi-open canopy and understory; and

(2) Substrate of sand and shell fragments of stabilized coastal dunes.

(B) Coastal grassland habitat that contains:

(1) No canopy and an open understory; and

(2) Substrate of sand and shell fragments.

(C) Coastal berm habitat that contains:

(1) Open to semi-open canopy, subcanopy, and understory; and

(2) Substrate of coarse, calcareous, storm-deposited sediment.

(D) Maritime hammock habitat that contains:

(1) Canopy gaps and edges with an open to semi-open canopy, subcanopy, and understory; and

(2) Substrate of calcareous sand and shell fragments.

(E) Shell mound habitat that contains:

(1) Open to semi-open canopy and understory; and

(2) Substrate of soil derived from calcareous shells deposited by Native Americans during prehistoric times.

(ii) A plant community of predominately native vegetation with no invasive, nonnative animal or plant species or such species in quantities low enough to have minimal effect on survival of Harrisia aboriginum.

(iii) Canopy openings in coastal strand, coastal grassland, coastal berm, maritime hammock, and shell mound habitats that are created by the effects of strong winds or saltwater inundation from storm surge or infrequent tidal inundation.

(iv) Habitats that are connected and of sufficient size to sustain viable populations in coastal strand, coastal grassland, coastal berm, maritime hammock, and shell mound habitats.

(v) Habitats that provide populations of the generalist pollinators that visit the flowers of Harrisia aboriginum.

Special Management Considerations or Protection for Harrisia aboriginum

Management considerations or protection are necessary throughout the critical habitat units to avoid further degradation or destruction of the habitat that provides those features essential to the species' conservation. The primary threats to the physical or biological features that Harrisia aboriginum depends on include:

(1) Habitat destruction and modification by development and sea level rise;

(2) Competition with nonnative, invasive plant species;

(3) Herbivorous nonnative animal species;

(4) Wildfire; and

(5) Hurricanes and storm surge.

Some of these threats can be addressed by special management considerations or protection while others (e.g., sea level rise, hurricanes, storm surge) are beyond the control of landowners and managers. However, even when landowners or land managers may not be able to control all the threats, they may be able to address the results of the threats.

Management activities that could ameliorate these threats include the monitoring and minimization of impacts from recreational activities, nonnative species control, and protection from development. Precautions are needed to avoid the inadvertent trampling of Harrisia aboriginum in the course of management activities and public use. Development of recreational facilities or programs should avoid impacting these habitats directly or indirectly. Ditching should be avoided because it alters the hydrology and species composition of these habitats. Sites that have shown increasing encroachment of woody species over time may require efforts to maintain the open nature of the habitat, which favors these species. Nonnative species control programs are needed to reduce competition, predation, and prevent habitat degradation. The reduction of these threats will require the implementation of special management actions within each of the critical habitat areas identified in this final rule. All critical habitat units require active management to address the ongoing threats above and those presented in the Summary of Factors Affecting the Species sections in the proposed and final listing rules.

The Service, State of Florida, and Manatee, Sarasota, Charlotte, and Lee Counties own and manage conservation lands within the historical range of Harrisia aboriginum. The CCP for J.N. `Ding' Darling National Wildlife Refuge (JDDNWR) promotes the enhancement of wildlife populations by maintaining and enhancing a diversity and abundance of habitats for native plants and animals, especially imperiled species. This CCP provides specifically for maintaining populations of H. aboriginum. The State Management Plans for Charlotte Harbor Preserve, Cayo Costa, Stump Pass Beach, Delnor-Wiggins Pass, and Gasparilla Island State Parks and Bocilla Preserve promote the protection of habitats and native species. The Service, State of Florida, and Manatee, Sarasota, Charlotte, and Lee Counties conduct nonnative species control efforts on sites that support, or have suitable habitat for, H. aboriginum. The Service monitors the population of H. aboriginum at JDDNWR. FDEP monitors the H. aboriginum population at Charlotte Harbor Preserve State Park.

Nonnative species control is currently lacking at Manasota Beach Park and Kitchen Key in areas that support H. aboriginum. Poaching, vandalism, and wildfire have been observed at Manasota Beach Park. Most populations are at elevations close to sea level and may require assisted migration as sea level rise continues to drive the transition toward salt-tolerant plant species in these areas. Reintroduction is needed to restore the species' historical distribution on Cayo Costa and Madira Bickell Mound State Historical Park. Augmentation of small populations at Longboat Key, Terra Ceia, Lemon Bay Preserve, Kitchen Key, Gasparilla Island, and Cayo Pelau would reduce the risk of population loss to hurricanes, storm surge, or wildfire.

Harrisia aboriginum is listed on the Regulated Plant Index as endangered under chapter 5B-40, Florida Administrative Code. Florida Statutes 581.185 sections (3)(a) and (b) prohibit any person from willfully destroying or harvesting any species listed as endangered or threatened on the Regulated Plant Index, or growing such a plant on the private land of another, or on any public land, without first obtaining the written permission of the landowner and a permit from the Florida Department of Plant Industry.

Criteria Used To Identify Critical Habitat for Harrisia aboriginum

We are designating critical habitat in areas within the geographical area occupied by Harrisia aboriginum at the time of listing in 2013. We also are designating specific areas outside the geographical area occupied by the species at the time of listing that were historically occupied, but are presently unoccupied, because such areas are essential for the conservation of the species.

We have determined that all areas known to be occupied at the time of listing meet the definition of critical habitat and are needed for the conservation of the species. However, we determined that occupied habitat is not adequate for the conservation of Harrisia aboriginum (see our rationale below). We used habitat and historical occurrence data to identify unoccupied habitat essential for the conservation of the species. To determine the location and boundaries of both occupied and unoccupied critical habitat, the Service used the following sources of data and information for H. aboriginum that include the following:

(1) FNAI population records and ArcGIS software to spatially depict the location and extent of documented populations of Harrisia aboriginum (FNAI 2011b, pp. 1-28);

(2) Reports prepared by botanists with the IRC and the Service (Some of these were funded by the Service; others were requested or volunteered by biologists with the Service.);

(3) Historical records found in reports and associated voucher specimens housed at herbaria, all of which are also referenced in the above-mentioned reports from the IRC and FNAI;

(4) Digitally produced habitat maps provided by FNAI; and

(5) Aerial images of Manatee, Charlotte, Sarasota, and Lee Counties. The presence of primary constituent elements was determined through the interpretation of aerial imagery. The areas that contain primary constituent elements follow predictable landscape patterns and have a recognizable signature in the aerial imagery.

Only approximately 300 to 500 individuals and 12 populations of Harrisia aboriginum are known to exist. All but 2 of these populations consist of fewer than 100 individuals, with 7 populations having 10 or fewer individuals (low redundancy). Most populations occur on coastal barrier islands where the amount of suitable remaining habitat is limited (low resiliency), and much of the remaining habitat will be lost to sea level rise over the next century. We have addressed representation through our primary constituent elements (as discussed above) and by providing habitat for H. aboriginum. For adequate redundancy and resiliency, it is essential for the conservation of H. aboriginum for additional populations to be established and existing populations to be augmented. Therefore, we have designated two unoccupied areas as critical habitat units where H. aboriginum was historically recorded, but has since been extirpated.

The current distribution of Harrisia aboriginum is reduced from its historical distribution, with no populations remaining in Manatee County, at the northern extent of the species' range. We anticipate that recovery will require continued protection of the remaining extant population and habitat, as well as establishing populations in additional areas that more closely approximate its historical distribution in order to ensure there are adequate numbers of plants in stable populations and that these populations occur over a wide geographic area. This will help to ensure that catastrophic events, such as storms, cannot simultaneously affect all known populations.

Areas Occupied at the Time of Listing

The occupied critical habitat units were delineated around documented extant populations. These units include the mapped extent of the population that contains one or more of the physical or biological features. We considered the following when identifying occupied areas of critical habitat:

(1) The delineation included space to allow for the successional nature of the occupied habitats (i.e., gain and loss of areas with sufficient light availability due to disturbance of the tree canopy driven by natural events such as inundation and hurricanes), and habitat transition or loss due to sea level rise.

(2) Some areas will require special management to be able to support a higher density of the plant within the occupied space. These areas generally are habitats where some of the primary constituent elements have been lost through natural or human causes. These areas would help to offset the anticipated loss and degradation of habitat occurring or expected from the effects of climate change (such as sea level rise) or due to development.

Areas Outside the Geographic Area Occupied at the Time of Listing

After completing the above analysis, we determined that occupied areas were not sufficient for the conservation of the species for the following reasons: (1) Restoring the species to its historical range and reducing its vulnerability to stochastic events such as hurricanes and storm surge requires reintroduction to areas where it occurred in the past but has since been extirpated; (2) providing increased connectivity for populations and areas for small populations to expand requires currently unoccupied habitat; and (3) reintroduction or assisted migration to reduce the species vulnerability to sea level rise and storm surge requires higher elevation sites that are currently unoccupied by Harrisia aboriginum. Therefore, we looked for unoccupied areas that may be essential for the conservation of the species.

The unoccupied areas are essential for the conservation of the species because they:

(1) Represent the historical range of Harrisia aboriginum. H. aboriginum has been extirpated from two locations where it was previously recorded. Of those areas found in reports, we are designating critical habitat only for those that are well-documented and essential for the conservation of the species (i.e., Terra Ceia, Cayo Costa) (Bradley and Gann 1999, p. 77; Bradley et al. 2004, p. 4). These areas also still retain some or all of the elements of the physical or biological features.

(2) Provide areas of sufficient size to support ecosystem processes for populations of Harrisia aboriginum. These areas are essential for the conservation of the species because they will provide areas for population expansion and growth. Large contiguous parcels of habitat are more likely to be resilient to ecological processes of disturbance and succession, and support viable populations of H. aboriginum. The unoccupied areas selected were at least 30 ac (12 ha) or greater in size.

The amount and distribution of designated critical habitat will allow Harrisia aboriginum to:

(1) Maintain its existing distribution;

(2) Expand its distribution into historically occupied areas (needed to offset habitat loss and fragmentation);

(3) Use habitat depending on habitat availability (response to changing nature of coastal habitat including sea level rise) and support genetic diversity;

(4) Increase the size of each population to a level where the threats of genetic, demographic, and normal environmental uncertainties are diminished; and

(5) Maintain its ability to withstand local or unit-level environmental fluctuations or catastrophes.

When determining critical habitat boundaries within this final rule, we made every effort to avoid including developed areas such as lands covered by buildings, pavement, and other structures because such lands lack physical or biological features for Harrisia aboriginum. The scale of the maps we prepared under the parameters for publication within the Code of Federal Regulations may not reflect the exclusion of such developed lands. Any such lands inadvertently left inside critical habitat boundaries shown on the maps of this final rule have been excluded by text in the rule and are not designated as critical habitat. Therefore, a Federal action involving these lands will not trigger section 7 consultation with respect to critical habitat and the requirement of no adverse modification unless the specific action would affect the physical or biological features in the adjacent critical habitat.

The critical habitat designation is defined by the map or maps, as modified by any accompanying regulatory text, presented at the end of this document in the rule portion. We include more detailed information on the boundaries of the critical habitat designation in the preamble of this document. We will make the coordinates, plot points, or both on which each map is based available to the public on http://www.regulations.gov at Docket No. FWS-R4-ES-2014-0057, on our Internet site, http://www.fws.gov/verobeach/, and at the field office responsible for the designation (see FOR FURTHER INFORMATION CONTACT above).

Critical Habitat Designation for Harrisia aboriginum

We are designating 11 units as critical habitat for Harrisia aboriginum. The critical habitat areas we describe below constitute our current best assessment of areas that meet the definition of critical habitat for H. aboriginum. The 11 areas we designate as critical habitat are:

(1) Unit APA1 Terra Ceia, Manatee County, Florida;

(2) Unit APA2 Longboat Key, Sarasota County, Florida;

(3) Unit APA3 Osprey, Sarasota County, Florida;

(4) Unit APA4 Manasota Key, Sarasota and Charlotte Counties, Florida;

(5) Unit APA5 Charlotte Harbor, Charlotte County, Florida;

(6) Unit APA6 Gasparilla Island North, Charlotte and Lee Counties, Florida;

(7) Unit APA7 Gasparilla Island South, Lee County, Florida;

(8) Unit APA8 Cayo Pelau, Charlotte and Lee Counties, Florida;

(9) Unit APA9 Cayo Costa, Lee County, Florida;

(10) Unit APA10 Bocilla Island, Lee County, Florida; and

(11) Unit APA11 Sanibel Island and Buck Key, Lee County, Florida.

Land ownership within the designated critical habitat consists of Federal (11 percent), State (48 percent), County (15 percent), and private and other (26 percent). Table 2 summarizes these units.

Table 2—Harrisia Aboriginum Critical Habitat Units
[All areas rounded to the nearest whole number, except where less than 1 acre (ac) or hectare (ha)]
Unit | Total ac (ha) | Federal ac (ha) | State ac (ha) | County ac (ha) | Private/Other ac (ha) | Occupied
APA1 Terra Ceia | 222 (90) | 0 | 66 (27) | 70 (28) | 87 (35) | No.
APA2 Longboat Key | 54 (22) | 0 | 0 | 0 | 54 (22) | Yes.
APA3 Osprey | 116 (47) | 0 | 0 | 50 (20) | 66 (27) | Yes.
APA4 Manasota Key | 415 (168) | 0 | 58 (23) | 111 (45) | 245 (99) | Yes.
APA5 Charlotte Harbor | 51 (21) | 0 | 51 (21) | 0 | 0 | Yes.
APA6 Gasparilla North | 98 (40) | 0 | 0.06 (0.02) | 22 (9) | 77 (31) | Yes.
APA7 Gasparilla South | 92 (37) | 3 (1) | 69 (28) | 12 (5) | 8 (3) | Yes.
APA8 Cayo Pelau | 25 (10) | 0 | 0 | 25 (10) | 0 | Yes.
APA9 Cayo Costa | 1,702 (689) | 0 | 1,379 (558) | 94 (38) | 230 (93) | No.
APA10 Bocilla | 33 (13) | 0 | 0 | 32 (13) | 0.7 (0.3) | Yes.
APA11 Sanibel Island and Buck Key | 635 (257) | 373 (151) | 47 (19) | 90 (36) | 126 (51) | Yes.
Total | 3,444 (1,394) | 376 (152) | 1,669 (676) | 505 (204) | 893 (361) |
Percent of Total | 100 | 11 | 48 | 15 | 26 |
Note: Area sizes may not sum due to rounding.

We present brief descriptions of all units, and reasons why they meet the definition of critical habitat for Harrisia aboriginum, below.

Unit APA1: Terra Ceia, Manatee County, Florida

Unit APA1 consists of approximately 222 ac (90 ha) in Manatee County, Florida. This unit is composed of State lands within Madira Bickel Mound State Historical Park, Terra Ceia Preserve State Park, Cockroach Bay State Buffer Preserve, and the Tampa Bay Estuarine System (66 ac (27 ha)); Manatee County lands at Emerson Point Preserve and parcels owned by the Manatee County Port Authority (70 ac (28 ha)); and parcels in private or other ownership (87 ac (35 ha)). This unit includes lands west of Highway 41 extending from just south of South Dock Street south to Snead Island. The unit also includes areas of Harbor Key, Mariposa Key, Horseshoe Key, Joe Island, Skeet Key, Paradise Island, Ed's Key, and Rattlesnake Key.

This unit was not occupied at the time the species was listed but is essential for the conservation of the species because it serves to protect habitat needed to recover the species, reestablish wild populations within the historical range of the species, and maintain populations throughout the historic distribution of the species in Manatee County, and will provide population redundancy in the case of stochastic events that otherwise hold the potential to eliminate the species from the one or more locations where it is presently found.

The Management Plan for Madira Bickel Mound State Historical Park, Terra Ceia Preserve State Park, Cockroach Bay State Buffer Preserve, and the Tampa Bay Estuarine System calls for the protection and restoration of habitats, but does not identify actions specific to Harrisia aboriginum. The FDEP conducts nonnative species control on their lands within the unit. Reintroduction of H. aboriginum within Madira Bickel Mound State Historical Park, Terra Ceia Preserve State Park, and the Tampa Bay Estuarine System is needed to restore the species to its historical distribution in Manatee County and reduce the risks to the species associated with hurricanes, storm surge, and sea level rise.

Unit APA2: Longboat Key, Sarasota County, Florida

Unit APA2 consists of approximately 54 ac (22 ha) in Sarasota County, Florida. This unit is composed entirely of parcels in private or other ownership. This unit includes lands west of Gulf of Mexico Drive, extending from 0.40 miles (mi) (0.6 kilometers (km)) south of the intersection of Bay Isles Parkway and Gulf of Mexico Drive, to the southern tip of Longboat Key. It also includes lands on the north side of Gulf of Mexico Drive, east of Longboat Club Key Drive, on the northwest tip of Longboat Key.

This unit was occupied at the time the species was listed and contains all the physical or biological features, including suitable climate, hydrology, substrate, associated native plant species, and disturbance regimes, essential to the conservation of the species, and the primary constituent elements of coastal strand, coastal berm, and maritime hammock. The physical or biological features in this unit may require special management considerations or protection to address threats of nonnative plant species and sea level rise. Augmentation of the Harrisia aboriginum population within the unit is needed to restore the species to its historical abundance and reduce the risks associated with small population size, hurricanes, storm surge, and sea level rise.

Unit APA3: Osprey, Sarasota County, Florida

Unit APA3 consists of approximately 116 ac (47 ha) in Sarasota County, Florida. This unit is composed of Sarasota County lands within Palmer Point County Park (50 ac (20 ha)) and parcels in private or other ownership (66 ac (27 ha)). This unit extends along the barrier island (Casey Key) from the south terminus of Blind Pass Road, south for approximately 1.2 mi (1.9 km) along North Casey Key Road. On the mainland, the unit includes lands bordered on the north by Vamo Way, to the east by Highway 41, and to the south by Palmetto Avenue.

This unit was occupied at the time the species was listed and contains the biological or physical features including suitable climate, hydrology, substrate, associated native plant species, and disturbance regimes essential to the conservation of the species and contains coastal strand, coastal berm, maritime hammock, and shell mound primary constituent elements. The physical or biological features in this unit may require special management considerations or protection to address threats of nonnative plant species, and sea level rise. Augmentation of the Harrisia aboriginum population within the unit is needed to restore the species to its historical abundance and reduce the risks associated with small population size, hurricanes, storm surge, and sea level rise.

Unit APA4: Manasota Key, Sarasota and Charlotte Counties, Florida

Unit APA4 consists of approximately 415 ac (168 ha) in Sarasota and Charlotte Counties, Florida. This unit is composed of State lands within Stump Pass Beach State Park (58 ac (23 ha)); County lands within Blind Pass Park, Brohard Beach and Paw Park, Manasota Beach Park, Casperson Beach Park, and Service Club Park (111 ac (45 ha)); and parcels in private or other ownership (245 ac (99 ha)). This unit extends from Beach Road in the City of Venice, south along Manasota Key to the barrier islands southern tip, including a portion of Peterson Island.

This unit was occupied at the time the species was listed and contains the physical or biological features, including suitable climate, hydrology, substrate, associated native plant species, and disturbance regimes essential to the conservation of the species and contains coastal strand, coastal berm, and maritime hammock primary constituent elements. The physical or biological features in this unit may require special management considerations or protection to address threats of nonnative plant species and sea level rise. The Management Plan for Stump Pass Beach State Park calls for the protection and restoration of habitats, but does not identify actions specific to Harrisia aboriginum. The FDEP conducts nonnative species control on their lands within the unit. Augmentation of the H. aboriginum population within the unit is needed to restore the species to its historical abundance and reduce the risks associated with small population size, hurricanes, storm surge, and sea level rise.

Unit APA5: Charlotte Harbor, Charlotte County, Florida

Unit APA5 consists of approximately 51 ac (21 ha) in Charlotte County, Florida. This unit is composed entirely of State lands within the Charlotte Harbor Preserve State Park. This unit includes the Big Mound, Boggess Ridge, and a shell mound located on the east side of Charlotte Harbor, south of the City of Charlotte Park. This unit was occupied at the time the species was listed and contains all the physical or biological features essential to the conservation of the species and contains coastal berm and shell mound primary constituent elements.

The physical or biological features in this unit may require special management considerations or protection to address threats of nonnative plant species and sea level rise. The Management Plan for Charlotte Harbor Preserve State Park calls for the protection and restoration of habitats, and identifies actions specific to Harrisia aboriginum. The FDEP conducts nonnative species control and monitors the H. aboriginum population in Charlotte Harbor Preserve State Park. Augmentation of the H. aboriginum population within the unit is needed to restore the species to its historical abundance and reduce the risks associated with small population size, hurricanes, storm surge, and sea level rise.

Unit APA6: Gasparilla North, Charlotte and Lee Counties, Florida

Unit APA6 consists of approximately 98 ac (40 ha) in Charlotte and Lee Counties, Florida. This unit is composed of State land (0.006 ac (0.02 ha)), county land (22 ac (9 ha)), and parcels in private or other ownership (77 ac (31 ha)). This unit includes most of Kitchen Key (Live Oak Key) and the area east of Gasparilla Road, from the intersection of Grouper Hole Road and Grouper Hole Court, south to 0.15 mi (0.24 km) north of Snail Island Court, from approximately 0.10 mi (0.21 km) south of 35th Street to 23rd Street, including the small island separated from Gasparilla Island by a canal; and from 22nd Street to 20th Street.

This unit was occupied at the time the species was listed and contains the physical or biological features including suitable climate, hydrology, substrate, associated native plant species, and disturbance regimes essential to the conservation of the species and contains coastal berm and maritime hammock primary constituent elements. The physical or biological features in this unit may require special management considerations or protection to address threats of nonnative plant species and sea level rise. Augmentation of the Harrisia aboriginum population within the unit is needed to restore the species to its historical abundance and reduce the risks associated with small population size, hurricanes, storm surge, and sea level rise.

Unit APA7: Gasparilla South, Lee County, Florida

Unit APA7 consists of approximately 92 ac (37 ha) in Lee County, Florida. This unit is composed of Federal land owned by the Service and Bureau of Land Management (BLM) (3 ac (1 ha)), State lands within Gasparilla Island State Park (69 ac (28 ha)), Lee County lands (12 ac (5 ha)), and parcels in private or other ownership (8 ac (3 ha)). This unit includes lands located from south of 1st Street to the southern tip of Gasparilla Island.

This unit was occupied at the time the species was listed and contains the physical or biological features, including suitable climate, hydrology, substrate, associated native plant species, and disturbance regimes essential to the conservation of the species and contains coastal strand, coastal berm, and maritime hammock primary constituent elements. The physical or biological features in this unit may require special management considerations or protection to address threats of nonnative plant species and sea level rise. The Management Plan for Gasparilla Island State Park calls for the protection and restoration of habitats, but does not identify actions specific to Harrisia aboriginum. The FDEP conducts nonnative species control on its lands within the unit. Augmentation of the H. aboriginum population within the unit is needed to restore the species to its historical abundance and reduce the risks associated with small population size, hurricanes, storm surge, and sea level rise.

Unit APA8: Cayo Pelau, Charlotte and Lee Counties, Florida

Unit APA8 consists of approximately 25 ac (10 ha) in Charlotte and Lee Counties, Florida. This unit is composed of Lee County lands within Cayo Pelau Preserve, and parcels in private or other ownership (0.6 ac (0.2 ha)). This unit includes lands located from 0.13 mi (0.21 km) south of the northern tip of Cayo Pelau, extending south to the southeastern tip of Cayo Pelau.

This unit was occupied at the time the species was listed and contains the physical or biological features including suitable climate, hydrology, substrate, associated native plant species, and disturbance regimes essential to the conservation of the species and contains coastal berm and shell mound primary constituent elements. The physical or biological features in this unit may require special management considerations or protection to address threats of nonnative plant species and sea level rise. Augmentation of the Harrisia aboriginum population within the unit is needed to restore the species to its historical abundance and reduce the risks associated with small population size, hurricanes, storm surge, and sea level rise.

Unit APA9: Cayo Costa, Lee County, Florida

Unit APA9 consists of approximately 1,702 ac (689 ha) in Lee County, Florida. This unit is composed of State lands within Cayo Costa State Park (1,379 ac (558 ha)), lands owned by Lee County (94 ac (38 ha)), and parcels in private or other ownership (230 ac (93 ha)). This unit includes lands located from the northern tip to the southern tip of Cayo Costa.

This unit was not occupied at the time the species was listed but is essential for the conservation of the species because it serves to protect habitat needed to recover the species, reestablish wild populations within the historical range of the species, maintain populations throughout the historic distribution of the species in Manatee County, and provide population redundancy in the case of stochastic events that otherwise hold the potential to eliminate the species from the one or more locations where it is presently found. The Management Plan for Cayo Costa State Park calls for the protection and restoration of habitats and identifies actions specific to Harrisia aboriginum. The FDEP conducts nonnative species control and monitored the population at Cayo Costa State Park until the last plant died in 2007. Reintroduction of H. aboriginum within Cayo Costa State Park is needed to restore the species to its historical distribution and reduce the risks to the species associated with hurricanes, storm surge, and sea level rise.

Unit APA10: Bocilla, Lee County, Florida

Unit APA10 consists of approximately 33 ac (13 ha) in Lee County, Florida. This unit is composed of Lee County lands within the Bocilla Preserve (32 ac (13 ha)) and parcels in private or other ownership (0.7 ac (0.3 ha)). This unit includes lands located on the undeveloped portion of Bokeelia Island from 0.02 mi (0.03 km) west of the terminus of Ebbtide Way, extending south and west to the northwest and southeast corners of Bokeelia Island.

This unit was occupied at the time the species was listed and contains the physical or biological features, including suitable climate, hydrology, substrate, associated native plant species, and disturbance regimes essential to the conservation of the species and contains the coastal berm primary constituent element. The physical or biological features in this unit may require special management considerations or protection to address threats of nonnative plant species and sea level rise. The Management Plan for Bocilla Preserve calls for the protection and restoration of habitats and identifies actions specific to Harrisia aboriginum.

Unit APA11: Sanibel Island and Buck Key, Lee County, Florida

Unit APA11 consists of approximately 635 ac (257 ha) in Lee County, Florida. This unit is composed of Federal lands owned by the Bureau of Land Management, and Service lands within the JDDNWR (373 ac (151 ha)), State lands (47 ac (13 ha)), lands owned by Lee County (90 ac (36 ha)), and parcels in private or other ownership (126 ac (51 ha)). This unit includes lands on Buck Key, Runyan Key, and Sanibel Island. On Sanibel Island, the unit includes a portion of Bowman's Beach, from just south of Silver Key to the western terminus of Water's Edge Lane; uplands within JDDNWR; and a shell mound located near the northern terminus of Tarpon Bay Road.

This unit was occupied at the time the species was listed and contains the physical or biological features, including suitable climate, hydrology, substrate, associated native plant species, and disturbance regimes essential to the conservation of the species and contains the maritime hammock primary constituent elements. The physical or biological features in this unit may require special management considerations or protection to address threats of nonnative plant species and sea level rise. The CCP for JDDNWR promotes the protection and restoration of habitats, and identifies actions specific to Harrisia aboriginum. The Service conducts nonnative species control and monitors the population at JDDNWR.

Effects of Critical Habitat Designation

Section 7 Consultation

Section 7(a)(2) of the Act requires Federal agencies, including the Service, to ensure that any action they fund, authorize, or carry out is not likely to jeopardize the continued existence of any endangered species or threatened species or result in the destruction or adverse modification of designated critical habitat of such species. In addition, section 7(a)(4) of the Act requires Federal agencies to confer with the Service on any agency action that is likely to jeopardize the continued existence of any species proposed to be listed under the Act or result in the destruction or adverse modification of proposed critical habitat.

Decisions by the 5th and 9th Circuit Courts of Appeals have invalidated our regulatory definition of “destruction or adverse modification” (50 CFR 402.02) (see Gifford Pinchot Task Force v. U.S. Fish and Wildlife Service, 378 F. 3d 1059 (9th Cir. 2004) and Sierra Club v. U.S. Fish and Wildlife Service, 245 F.3d 434 (5th Cir. 2001)), and we do not rely on this regulatory definition when analyzing whether an action is likely to destroy or adversely modify critical habitat. Under the statutory provisions of the Act, we determine destruction or adverse modification on the basis of whether, with implementation of the proposed Federal action, the affected critical habitat would continue to serve its intended conservation role for the species.

If a Federal action may affect a listed species or its critical habitat, the responsible Federal agency (action agency) must enter into consultation with us. Examples of actions that are subject to the section 7 consultation process are actions on State, tribal, local, or private lands that require a Federal permit (such as a permit from the U.S. Army Corps of Engineers under section 404 of the Clean Water Act (33 U.S.C. 1251 et seq.) or a permit from the Service under section 10 of the Act) or that involve some other Federal action (such as funding from the Federal Highway Administration, Federal Aviation Administration, or the Federal Emergency Management Agency). Federal actions not affecting listed species or critical habitat, and actions on State, tribal, local, or private lands that are not federally funded or authorized, do not require section 7 consultation.

As a result of section 7 consultation, we document compliance with the requirements of section 7(a)(2) through our issuance of:

(1) A concurrence letter for Federal actions that may affect, but are not likely to adversely affect, listed species or critical habitat; or

(2) A biological opinion for Federal actions that may affect and are likely to adversely affect, listed species or critical habitat.

When we issue a biological opinion concluding that a project is likely to jeopardize the continued existence of a listed species and/or destroy or adversely modify critical habitat, we provide reasonable and prudent alternatives to the project, if any are identifiable, that would avoid the likelihood of jeopardy and/or destruction or adverse modification of critical habitat. We define “reasonable and prudent alternatives” (at 50 CFR 402.02) as alternative actions identified during consultation that:

(1) Can be implemented in a manner consistent with the intended purpose of the action,

(2) Can be implemented consistent with the scope of the Federal agency's legal authority and jurisdiction,

(3) Are economically and technologically feasible, and

(4) Would, in the Director's opinion, avoid the likelihood of jeopardizing the continued existence of the listed species and/or avoid the likelihood of destroying or adversely modifying critical habitat.

Reasonable and prudent alternatives can vary from slight project modifications to extensive redesign or relocation of the project. Costs associated with implementing a reasonable and prudent alternative are similarly variable.

Regulations at 50 CFR 402.16 require Federal agencies to reinitiate consultation on previously reviewed actions in instances where we have listed a new species or subsequently designated critical habitat that may be affected and the Federal agency has retained discretionary involvement or control over the action (or the agency's discretionary involvement or control is authorized by law). Consequently, Federal agencies sometimes may need to request reinitiation of consultation with us on actions for which formal consultation has been completed, if those actions with discretionary involvement or control may affect subsequently listed species or designated critical habitat.

Application of the “Adverse Modification” Standard

The key factor related to the adverse modification determination is whether, with implementation of the proposed Federal action, the affected critical habitat would continue to serve its intended conservation role for the species. Activities that may destroy or adversely modify critical habitat are those that alter the physical or biological features to an extent that appreciably reduces the conservation value of critical habitat for Consolea corallicola and Harrisia aboriginum. As discussed above, the role of critical habitat is to support life-history needs of the species and provide for the conservation of the species.

Section 4(b)(8) of the Act requires us to briefly evaluate and describe, in any proposed or final regulation that designates critical habitat, activities involving a Federal action that may destroy or adversely modify such habitat, or that may be affected by such designation.

Activities that may affect critical habitat, when carried out, funded, or authorized by a Federal agency, should result in consultation for the Consolea corallicola and Harrisia aboriginum. These activities include, but are not limited to:

(1) Actions that would significantly alter the hydrology or substrate, such as ditching or filling. Such activities may include, but are not limited to, road construction or maintenance, and residential, commercial, or recreational development.

(2) Actions that would significantly alter vegetation structure or composition, such as clearing vegetation for construction of roads, residential and commercial development, and recreational facilities, and trails.

(3) Actions that would introduce nonnative species that would significantly alter vegetation structure or composition. Such activities may include, but are not limited to, residential and commercial development and road construction.

Exemptions

Application of Section 4(a)(3) of the Act

Section 4(a)(3)(B)(i) of the Act (16 U.S.C. 1533(a)(3)(B)(i)) provides that: “The Secretary shall not designate as critical habitat any lands or other geographic areas owned or controlled by the Department of Defense, or designated for its use, that are subject to an integrated natural resources management plan (INRMP) prepared under section 101 of the Sikes Act (16 U.S.C. 670a), if the Secretary determines in writing that such plan provides a benefit to the species for which critical habitat is proposed for designation.” There are no Department of Defense lands with a completed INRMP within the critical habitat for Consolea corallicola or Harrisia aboriginum.

Consideration of Impacts Under Section 4(b)(2) of the Act

Section 4(b)(2) of the Act states that the Secretary shall designate and make revisions to critical habitat on the basis of the best available scientific data after taking into consideration the economic impact, national security impact, and any other relevant impact of specifying any particular area as critical habitat. The Secretary may exclude an area from critical habitat if she determines that the benefits of such exclusion outweigh the benefits of specifying such area as part of the critical habitat, unless she determines, based on the best scientific data available, that the failure to designate such area as critical habitat will result in the extinction of the species. In making that determination, the statute on its face, as well as the legislative history, are clear that the Secretary has broad discretion regarding which factor(s) to use and how much weight to give to any factor.

Consideration of Economic Impacts

Under section 4(b)(2) of the Act, we consider the economic impacts of specifying any particular area as critical habitat. In order to consider economic impacts, we prepared an incremental effects memorandum (IEM) and screening analysis which together with our narrative and interpretation of effects we consider our draft economic analysis (DEA) of the proposed critical habitat designation and related factors (Industrial Economics, Incorporated (IEc) 2014, entire). The analysis, dated October 15, 2014, was made available for public review from January 22, 2015, through March 23, 2015 (80 FR 3316). The DEA addressed probable economic impacts of critical habitat designation for Consolea corallicola and Harrisia aboriginum. Following the close of the comment period, we reviewed and evaluated all information submitted during the comment period that may pertain to our consideration of the probable incremental economic impacts of this critical habitat designation. We did not receive any comments regarding the DEA; therefore, we consider the DEA to be the final economic analysis. Additional information relevant to the probable incremental economic impacts of critical habitat designation for the Consolea corallicola and Harrisia aboriginum is summarized below and available in the screening analysis for these species (IEc 2014), available at http://www.regulations.gov.

The following provides a summary of the DEA. For more information regarding the Service's economic analysis process, please see Consideration of Impacts Under Section 4(b)(2) of the Act in the proposed rule (80 FR 3316, 3331-3334).

In our evaluation of the probable incremental economic impacts that may result from the designation of critical habitat for Consolea corallicola and Harrisia aboriginum, first we identified, in the IEM dated July 30, 2014, probable incremental economic impacts associated with the following categories of activities:

(1) Federal lands management (NPS, Service, BLM);

(2) Roadway and bridge construction;

(3) Dredging;

(4) Commercial or residential development;

(5) Recreation (including construction of recreation infrastructure).

We considered each industry or category individually. Additionally, we considered whether these activities have any Federal involvement. Critical habitat designation will not affect activities that do not have any Federal involvement; designation of critical habitat only affects activities conducted, funded, permitted, or authorized by Federal agencies. In areas where Consolea corallicola or Harrisia aboriginum is present, Federal agencies already are required to consult with the Service under section 7 of the Act on activities they authorize, fund, or carry out that may affect the species. Once critical habitat is designated, consultations to avoid the destruction or adverse modification of critical habitat would be incorporated into the existing consultation process. Therefore, disproportionate impacts to any geographic area or sector are not likely as a result of this critical habitat designation.

In our IEM, we attempted to clarify the distinction between the effects that will result from the species being listed and those attributable to the critical habitat designation (i.e., difference between the jeopardy and adverse modification standards) for Consolea corallicola's and Harrisia aboriginum's critical habitat. Because the designation of critical habitat for Consolea corallicola and Harrisia aboriginum was proposed soon after the listing, it has been our experience that it is more difficult to discern which conservation efforts are attributable to the species being listed and those which will result solely from the designation of critical habitat. However, the following specific circumstances in this case help to inform our evaluation: (1) The essential physical or biological features identified for critical habitat are the same features essential for the life requisites of the species and (2) any actions that would result in sufficient harm or harassment to constitute jeopardy to Consolea corallicola or Harrisia aboriginum would also likely adversely affect the essential physical or biological features of critical habitat. The IEM outlined our rationale concerning this limited distinction between baseline conservation efforts and incremental impacts of the designation of critical habitat for these species. This evaluation of the incremental effects was used as the basis to evaluate the probable incremental economic impacts of the proposed rule to designate critical habitat.

Consolea corallicola

The critical habitat designation for Consolea corallicola totals approximately 4,411 ac (1,785 ha) across four units in Miami-Dade and Monroe Counties, Florida, all of which was occupied by the species at the time of listing. The critical habitat includes lands under Federal (28 percent), State (58 percent), county (1 percent), and private or other (13 percent) ownership. In these areas any actions that may affect the species or its habitat would also affect designated critical habitat, and it is unlikely that any additional conservation efforts would be recommended to address the adverse modification standard over and above those recommended as necessary to avoid jeopardizing the continued existence of C. corallicola. Therefore, only administrative costs are expected in the critical habitat designation. While this additional analysis will require time and resources by both the Federal action agency and the Service, in most circumstances, these costs would predominantly be administrative in nature and would not be significant.

Based on the available information, we anticipate no more than three consultations per year within the critical habitat units. Communications with affected entities indicate that critical habitat designation is likely to result in no more than a few consultations, with minor conservation efforts that would likely result in relatively low probable economic impacts. Unit costs of such administrative efforts range from approximately $410 to $5,000 per consultation (2014 dollars, total cost for all parties participating in a single consultation) (IEc 2014, p. 10). Applying these unit cost estimates, this analysis conservatively estimates that the administrative cost of considering adverse modification in section 7 consultation will result in incremental costs of up to $7,100 (2014 dollars) in a given year for Consolea corallicola (IEc 2014, pp. 10-11).

The entities most likely to incur incremental costs are parties to section 7 consultations, including Federal action agencies and, in some cases, third parties, most frequently State agencies or municipalities. Activities we expect will be subject to consultations that may involve private entities as third parties are residential and commercial development that may occur on private lands. However, based on coordination efforts with State and local agencies, the cost to private entities within these sectors is expected to be relatively minor (administrative costs of $5,000 or less per consultation effort) and, therefore, would not be significant.

The probable incremental economic impacts of Consolea corallicola critical habitat designation are expected to be limited to additional administrative effort as well as minor costs of conservation efforts resulting from a small number of future section 7 consultations. This estimation is due to two factors: (1) The critical habitat units are all considered to be occupied by the species, and incremental economic impacts of critical habitat designation, other than administrative costs, are unlikely; and (2) few actions are anticipated that will result in section 7 consultation or associated project modifications.

Harrisia aboriginum

The critical habitat designation for Harrisia aboriginum totals approximately 3,444 ac (1,394 ha) across 11 units in Manatee, Sarasota, Charlotte, and Lee County. Nine of these units (approximately 44 percent of the area) were occupied by the species at the time of listing; the remaining two units (approximately 56 percent of the area) were unoccupied. The critical habitat includes lands under Federal (11 percent), State (48 percent), county (15 percent), and private or other (26 percent) ownership.

Based on the available information, we anticipate no more than four consultations per year within the occupied critical habitat units. In the occupied areas, any actions that may affect the species or its habitat would also affect designated critical habitat and it is unlikely that any additional conservation efforts would be recommended to address the adverse modification standard over and above those recommended as necessary to avoid jeopardizing the continued existence of Harrisia aboriginum. Therefore, only administrative costs are expected in approximately 44 percent of the critical habitat designation. While this additional analysis will require time and resources by both the Federal action agency and the Service, in most circumstances, these costs would predominantly be administrative in nature and would not be significant. Unit costs of such administrative efforts range from approximately $410 to $5,000 per consultation (2014 dollars, total cost for all parties participating in a single consultation) (IEc 2014, p. 10). Applying these unit cost estimates to the occupied units, this analysis conservatively estimates that the administrative cost of considering adverse modification in section 7 consultation will result in incremental costs of up to $7,000 (2014 dollars) in a given year for H. aboriginum (IEc 2014, p. 11).

In the unoccupied areas, any conservation efforts or associated probable impacts would be considered incremental effects attributed to the critical habitat designation. However, within the unoccupied critical habitat, few actions are expected to occur that will result in section 7 consultations or associated project modifications because no Federal lands are included in these units. Based on the results from past consultation history for these areas and communications with potentially affected entities, we anticipate that an additional six projects will result in section 7 consultation (two formal and four informal) within the unoccupied units per year, with minor conservation efforts that would likely result in relatively low probable economic impacts. Unit costs of such administrative efforts range from approximately $1,200 to $15,000 per consultation (2014 dollars, total cost for all parties participating in a single consultation) (IEc 2014, p. 10). Applying these unit cost estimates to the unoccupied units, this analysis conservatively estimates that the administrative cost of considering adverse modification in section 7 consultation will result in incremental costs of up to $60,000 (2014 dollars) in a given year for H. aboriginum (IEc 2014, pp. 10-11). Therefore, the estimate of incremental costs for all units (occupied and unoccupied) is $67,000 (2014 dollars) in a given year for H. aboriginum (IEc 2014, pp. 10-11).

The entities most likely to incur incremental costs are parties to section 7 consultations, including Federal action agencies and, in some cases, third parties which will most frequently be State agencies or municipalities. Activities that we expect will be subject to consultations that may involve private entities as third parties are residential and commercial development that may occur on private lands. However, based on coordination efforts with State and local agencies, the cost to private entities within these sectors is expected to be relatively minor (administrative costs of less than $5,000 (occupied) or $15,000 (unoccupied) per consultation effort), and any costs from required conservation measures, therefore, would not be significant.

The probable incremental economic impacts of Harrisia aboriginum critical habitat designation are expected to be limited to additional administrative effort as well as minor costs of conservation efforts resulting from a small number of future section 7 consultations. This estimation is due to two factors: (1) Incremental economic impacts of critical habitat designation, other than administrative costs, are unlikely; and (2) in units that are not occupied by H. aboriginum (56 percent), few actions are anticipated that will result in section 7 consultation or associated project modifications.

For both species, the DEA also discusses the potential for incremental costs to occur outside of the section 7 consultation process, including costs associated with the potential triggering of additional requirements or project modifications under State laws or regulations, and perceptional effects on markets. It is unlikely that the designation of critical habitat will trigger additional State or local restrictions (IEc 2014, pp. 11-12). Public perception of critical habitat may result in landowners or buyers believing that the rule will restrict land or water use activities in some way and, therefore, valuing the resource less than they would have absent critical habitat. This is a perceptional, or stigma, effect of critical habitat on markets. Costs resulting from public perception of the impact of critical habitat, if they occur, are more likely to occur on private lands. However, based on the economic analysis, “possible costs resulting from public perception of the effect of critical habitat designation, when combined with section 7 costs, are unlikely to exceed the threshold for an economically significant rulemaking under [Executive Order] 12866” (IEc 2014, p. 13). Under Executive Order 12866, agencies must assess the potential costs and benefits of regulatory actions and quantify those costs and benefits if that action may have an effect on the economy of $100 million or more annually.

Exclusions Based on Economic Impacts

Our economic analysis did not identify any disproportionate costs that are likely to result from the designation. Consequently, the Secretary is not exercising her discretion to exclude any areas from this designation of critical habitat for Consolea corallicola or Harrisia aboriginum based on economic impacts.

A copy of the IEM and screening analysis with supporting documents may be obtained by contacting the South Florida Ecological Services Office (see ADDRESSES) or by downloading from the Internet at http://www.regulations.gov.

Exclusions Based on National Security Impacts

Under section 4(b)(2) of the Act, we consider whether there are lands owned or managed by the Department of Defense where a national security impact might exist. In preparing this final rule, we have determined that no lands within the designation of critical habitat for Consolea corallicola or Harrisia aboriginum are owned or managed by the Department of Defense or Department of Homeland Security, and, therefore, we anticipate no impact on national security. Consequently, the Secretary is not exercising her discretion to exclude any areas from this final designation based on impacts on national security.

Exclusions Based on Other Relevant Impacts

Under section 4(b)(2) of the Act, we also consider any other relevant impacts resulting from the designation of critical habitat. We consider a number of factors, including whether the landowners have developed any HCPs or other management plans for the area, or whether there are conservation partnerships that would be encouraged by designation of, or exclusion from, critical habitat. In addition, we look at any tribal issues, and consider the government-to-government relationship of the United States with tribal entities. We also consider any social impacts that might occur because of the designation.

We have determined that the Monroe County HCP for Big Pine and No Name Keys is the only HCP or other management plan that will be affected by either species' critical habitat designation. The Monroe County HCP for Big Pine and No Name Keys, which covers a portion of unit FSC3, does not include Consolea corallicola as a “Covered Species,” and C. corallicola is not mentioned specifically anywhere in the HCP document. Further, the critical habitat designation does not include any tribal lands or trust resources. Therefore, we anticipate no impact on tribal lands, partnerships, or other HCPs from this final critical habitat designation. Accordingly, the Secretary is not exercising her discretion to exclude any areas from this final designation based on other relevant impacts.

Required Determinations

Regulatory Planning and Review (Executive Orders 12866 and 13563)

Executive Order (E.O.) 12866 provides that the Office of Information and Regulatory Affairs (OIRA) will review all significant rules. The Office of Information and Regulatory Affairs has determined that this rule is not significant.

E.O. 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act (5 U.S.C. 601 et seq.)

Under the Regulatory Flexibility Act (RFA; 5 U.S.C. 601 et seq.), as amended by the Small Business Regulatory Enforcement Fairness Act of 1996 (SBREFA; 5 U.S.C 801 et seq.), whenever an agency is required to publish a notice of rulemaking for any proposed or final rule, it must prepare and make available for public comment a regulatory flexibility analysis that describes the effects of the rule on small entities (i.e., small businesses, small organizations, and small government jurisdictions). However, no regulatory flexibility analysis is required if the head of the agency certifies the rule will not have a significant economic impact on a substantial number of small entities. The SBREFA amended the RFA to require Federal agencies to provide a certification statement of the factual basis for certifying that the rule will not have a significant economic impact on a substantial number of small entities.

According to the Small Business Administration, small entities include small organizations such as independent nonprofit organizations; small governmental jurisdictions, including school boards and city and town governments that serve fewer than 50,000 residents; and small businesses (13 CFR 121.201). Small businesses include manufacturing and mining concerns with fewer than 500 employees, wholesale trade entities with fewer than 100 employees, retail and service businesses with less than $5 million in annual sales, general and heavy construction businesses with less than $27.5 million in annual business, special trade contractors doing less than $11.5 million in annual business, and agricultural businesses with annual sales less than $750,000. To determine if potential economic impacts to these small entities are significant, we considered the types of activities that might trigger regulatory impacts under this designation as well as the types of project modifications that may result. In general, the term “significant economic impact” is meant to apply to a typical small business firm's business operations.

The Service's current understanding of the requirements under the RFA, as amended, and following recent court decisions, is that Federal agencies are required to evaluate the potential incremental impacts of rulemaking only on those entities directly regulated by the rulemaking itself and, therefore, not required to evaluate the potential impacts to indirectly regulated entities. The regulatory mechanism through which critical habitat protections are realized is section 7 of the Act, which requires Federal agencies, in consultation with the Service, to ensure that any action authorized, funded, or carried by the Agency is not likely to destroy or adversely modify critical habitat. Therefore, under section 7 only Federal action agencies are directly subject to the specific regulatory requirement (avoiding destruction and adverse modification) imposed by critical habitat designation. Consequently, it is our position that only Federal action agencies will be directly regulated by this designation. There is no requirement under the RFA to evaluate the potential impacts to entities not directly regulated. Therefore, because no small entities are directly regulated by this rulemaking, the Service certified, in the proposed rule, that, if promulgated, the final critical habitat designation would not have a significant economic impact on a substantial number of small entities.

During the development of this final rule we reviewed and evaluated all information submitted during the comment period that may pertain to our consideration of the probable incremental economic impacts of this critical habitat designation. Based on this information, we affirm our certification that this final critical habitat designation will not have a significant economic impact on a substantial number of small entities, and a regulatory flexibility analysis is not required.

Energy Supply, Distribution, or Use—Executive Order 13211

Executive Order 13211 (Actions Concerning Regulations That Significantly Affect Energy Supply, Distribution, or Use) requires agencies to prepare Statements of Energy Effects when undertaking certain actions. OMB has provided guidance for implementing this Executive Order that outlines nine outcomes that may constitute “a significant adverse effect” when compared to not taking the regulatory action under consideration. The economic analysis finds that none of these criteria are relevant to this analysis. Thus, based on information in the economic analysis, energy-related impacts associated with Consolea corallicola or Harrisia aboriginum conservation activities within critical habitat are not expected. As such, the designation of critical habitat is not expected to significantly affect energy supplies, distribution, or use. Therefore, this action is not a significant energy action, and no Statement of Energy Effects is required.

Unfunded Mandates Reform Act (2 U.S.C. 1501 et seq.)

In accordance with the Unfunded Mandates Reform Act (2 U.S.C. 1501 et seq.), we make the following findings:

(1) This rule will not produce a Federal mandate. In general, a Federal mandate is a provision in legislation, statute, or regulation that would impose an enforceable duty upon State, local, or tribal governments, or the private sector, and includes both “Federal intergovernmental mandates” and “Federal private sector mandates.” These terms are defined in 2 U.S.C. 658(5)-(7). “Federal intergovernmental mandate” includes a regulation that “would impose an enforceable duty upon State, local, or tribal governments” with two exceptions. It excludes “a condition of Federal assistance.” It also excludes “a duty arising from participation in a voluntary Federal program,” unless the regulation “relates to a then-existing Federal program under which $500,000,000 or more is provided annually to State, local, and tribal governments under entitlement authority,” if the provision would “increase the stringency of conditions of assistance” or “place caps upon, or otherwise decrease, the Federal Government's responsibility to provide funding,” and the State, local, or tribal governments “lack authority” to adjust accordingly. At the time of enactment, these entitlement programs were: Medicaid; Aid to Families with Dependent Children work programs; Child Nutrition; Food Stamps; Social Services Block Grants; Vocational Rehabilitation State Grants; Foster Care, Adoption Assistance, and Independent Living; Family Support Welfare Services; and Child Support Enforcement. “Federal private sector mandate” includes a regulation that “would impose an enforceable duty upon the private sector, except (i) a condition of Federal assistance or (ii) a duty arising from participation in a voluntary Federal program.”

The designation of critical habitat does not impose a legally binding duty on non-Federal Government entities or private parties. Under the Act, the only regulatory effect is that Federal agencies must ensure that their actions do not destroy or adversely modify critical habitat under section 7. While non-Federal entities that receive Federal funding, assistance, or permits, or that otherwise require approval or authorization from a Federal agency for an action, may be indirectly impacted by the designation of critical habitat, the legally binding duty to avoid destruction or adverse modification of critical habitat rests squarely on the Federal agency. Furthermore, to the extent that non-Federal entities are indirectly impacted because they receive Federal assistance or participate in a voluntary Federal aid program, the Unfunded Mandates Reform Act would not apply, nor would critical habitat shift the costs of the large entitlement programs listed above onto State governments.

(2) We do not believe that this rule would significantly or uniquely affect small governments. The government lands being designated as critical habitat are owned by the Town of Longboat Key, the State of Florida, and BLM, NPS, and the Service. None of these government entities fit the definition of “small governmental jurisdiction.” Consequently, we do not believe that the critical habitat designation would significantly or uniquely affect small government entities. As such, a Small Government Agency Plan is not required.

Takings—Executive Order 12630

In accordance with Executive Order 12630 (“Government Actions and Interference with Constitutionally Protected Private Property Rights”), we have analyzed the potential takings implications of designating critical habitat for Consolea corallicola or Harrisia aboriginum in a takings implications assessment. As discussed above, the designation of critical habitat affects only Federal actions. Critical habitat designation does not affect landowner actions that do not require Federal funding or permits, nor does it preclude development of habitat conservation programs or issuance of incidental take permits to permit actions that do require Federal funding or permits to go forward. Due to current public knowledge of the species protections and the prohibition against take of the species both within and outside of the designated areas, we do not anticipate that property values will be affected by the critical habitat designation. Based on the best available information, the takings implications assessment concludes that this designation of critical habitat for Consolea corallicola or Harrisia aboriginum does not pose significant takings implications.

Federalism—E.O. 13132

In accordance with E.O. 13132 (Federalism), this rule does not have significant Federalism effects. A Federalism assessment is not required. In keeping with Department of the Interior and Department of Commerce policy, we request information from, and coordinated development of, this critical habitat designation with appropriate State resource agencies in Florida. We received comments from FDACS DPI and have addressed them in the Summary of Comments and Recommendations section of the rule. From a Federalism perspective, the designation of critical habitat directly affects only the responsibilities of Federal agencies. The Act imposes no other duties with respect to critical habitat, either for States and local governments, or for anyone else. As a result, the rule does not have substantial direct effects either on the States, or on the relationship between the national government and the States, or on the distribution of powers and responsibilities among the various levels of government. The designation may have some benefit to these governments because the areas that contain the features essential to the conservation of the species are more clearly defined, and the physical or biological features of the habitat necessary to the conservation of the species are specifically identified. This information does not alter where and what federally sponsored activities may occur. However, it may assist these local governments in long-range planning (because these local governments no longer have to wait for case-by-case section 7 consultations to occur).

Where State and local governments require approval or authorization from a Federal agency for actions that may affect critical habitat, consultation under section 7(a)(2) would be required. While non-Federal entities that receive Federal funding, assistance, or permits, or that otherwise require approval or authorization from a Federal agency for an action, may be indirectly impacted by the designation of critical habitat, the legally binding duty to avoid destruction or adverse modification of critical habitat rests squarely on the Federal agency.

Civil Justice Reform—E.O. 12988

In accordance with E.O. 12988 (Civil Justice Reform), the Office of the Solicitor has determined that the rule does not unduly burden the judicial system and that it meets the applicable standards set forth in sections 3(a) and 3(b)(2) of the Order. We are designating critical habitat in accordance with the provisions of the Act. To assist the public in understanding the habitat needs of the species, the rule identifies the elements of physical or biological features essential to the conservation of the species. The designated areas of critical habitat are presented on maps, and the rule provides several options for the interested public to obtain more detailed location information, if desired.

Paperwork Reduction Act of 1995 (44 U.S.C. 3501 et seq.)

This rule does not contain any new collections of information that require approval by OMB under the Paperwork Reduction Act of 1995 (44 U.S.C. 3501 et seq.). This rule will not impose recordkeeping or reporting requirements on State or local governments, individuals, businesses, or organizations. An agency may not conduct or sponsor, and a person is not required to respond to, a collection of information unless it displays a currently valid OMB control number.

National Environmental Policy Act (42 U.S.C. 4321 et seq.)

It is our position that, outside the jurisdiction of the U.S. Court of Appeals for the Tenth Circuit, we do not need to prepare environmental analyses pursuant to the National Environmental Policy Act in connection with designating critical habitat under the Act. We published a notice outlining our reasons for this determination in the Federal Register on October 25, 1983 (48 FR 49244). This position was upheld by the U.S. Court of Appeals for the Ninth Circuit (Douglas County v. Babbitt, 48 F.3d 1495 (9th Cir. 1995), cert. denied 516 U.S. 1042 (1996)).

Government-to-Government Relationship With Tribes

In accordance with the President's memorandum of April 29, 1994 (Government-to-Government Relations with Native American Tribal Governments; 59 FR 22951), Executive Order 13175 (Consultation and Coordination With Indian Tribal Governments), and the Department of the Interior's manual at 512 DM 2, we readily acknowledge our responsibility to communicate meaningfully with recognized Federal Tribes on a government-to-government basis. In accordance with Secretarial Order 3206 of June 5, 1997 (American Indian Tribal Rights, Federal-Tribal Trust Responsibilities, and the Endangered Species Act), we readily acknowledge our responsibilities to work directly with tribes in developing programs for healthy ecosystems, to acknowledge that tribal lands are not subject to the same controls as Federal public lands, to remain sensitive to Indian culture, and to make information available to tribes. As discussed above, we have determined that there are no tribal lands occupied by Consolea corallicola or Harrisia aboriginum at the time of listing that contain the physical or biological features essential to conservation of these species, and no tribal lands unoccupied by C. corallicola or H. aboriginum that are essential for the conservation of the species.

References Cited

A complete list of references cited in this rulemaking is available on the Internet at http://www.regulations.gov and upon request from the South Florida Ecological Services Office (see FOR FURTHER INFORMATION CONTACT).

Authors

The primary authors of this package are the staff members of the South Florida Ecological Services Office.

List of Subjects in 50 CFR Part 17

Endangered and threatened species, Exports, Imports, Reporting and recordkeeping requirements, Transportation.

Regulation Promulgation

Accordingly, we amend part 17, subchapter B of chapter I, title 50 of the Code of Federal Regulations, as set forth below:

PART 17—ENDANGERED AND THREATENED WILDLIFE AND PLANTS

1. The authority citation for part 17 continues to read as follows:

Authority: 16 U.S.C. 1361-1407; 1531-1544; 4201-4245, unless otherwise noted.

2. In § 17.12(h), revise the entries for “Consolea corallicola Cactus, Florida semaphore” and “Harrisia aboriginum Prickly-apple, aboriginal” under “Flowering Plants” in the List of Endangered and Threatened Plants to read as follows:

§ 17.12 Endangered and threatened plants.

* * * * *

(h) * * *

Species: Scientific name | Species: Common name | Historic range | Family | Status | When listed | Critical habitat | Special rules
Flowering Plants
* * * * * * *
Consolea corallicola | Cactus, Florida semaphore | U.S.A. (FL) | Cactaceae | E | 826 | 17.96(a) | NA
* * * * * * *
Harrisia aboriginum | Prickly-apple, aboriginal | U.S.A. (FL) | Cactaceae | E | 826 | 17.96(a) | NA
* * * * * * *

3. Amend § 17.96(a) by adding entries for “Consolea corallicola (Florida semaphore cactus)” and “Harrisia aboriginum (aboriginal prickly-apple)” in alphabetical order under the family Cactaceae, to read as follows:

§ 17.96 Critical habitat—plants.

(a) Flowering plants.

* * * * *

Family Cactaceae: Consolea corallicola (Florida semaphore cactus)

(1) Critical habitat units are depicted for Miami-Dade and Monroe Counties, Florida, on the maps below.

(2) Within these areas, the primary constituent elements of the physical or biological features essential to the conservation of Consolea corallicola are:

(i) Areas of upland habitats consisting of coastal berm, rockland hammocks, and buttonwood forest.

(A) Coastal berm habitat that contains:

(1) Open to semi-open canopy, subcanopy, and understory; and

(2) Substrate of coarse, calcareous, and storm-deposited sediment.

(B) Rockland hammock habitat that contains:

(1) Canopy gaps and edges with an open to semi-open canopy, subcanopy, and understory; and

(2) Substrate with a thin layer of highly organic soil covering limestone or organic matter that accumulates on top of the limestone.

(C) Buttonwood forest habitat that contains:

(1) Open to semi-open canopy and understory; and

(2) Substrate with calcareous marl muds, calcareous sands, or limestone rock.

(ii) A plant community of predominately native vegetation with no invasive, nonnative animal or plant species or such species in quantities low enough to have minimal effect on survival of Consolea corallicola.

(iii) A disturbance regime, due to the effects of strong winds or saltwater inundation from storm surge or infrequent tidal inundation, that creates canopy openings in coastal berm, rockland hammocks, and buttonwood forest.

(iv) Habitats that are connected and of sufficient size to sustain viable populations in coastal berm, rockland hammocks, and buttonwood forest.

(v) Habitats that provide populations of the generalist pollinators that visit the flowers of Consolea corallicola.

(3) Critical habitat does not include manmade structures (such as buildings, aqueducts, runways, roads, and other paved areas) and the land on which they are located that exists within the legal boundaries on February 22, 2016.

(4) Critical habitat map units. Data layers defining map units were developed using ESRI ArcGIS mapping software along with various spatial data layers. ArcGIS was also used to calculate area. The projection used in mapping and calculating distances and locations within the units was North American Albers Equal Area Conic, NAD 83. The maps in this entry, as modified by any accompanying regulatory text, establish the boundaries of the critical habitat designation. The coordinates, plot points, or both on which each map is based are available to the public at the Service's Internet site at http://www.fws.gov/verobeach/, at http://www.regulations.gov at Docket No. FWS-R4-ES-2014-0057, and at the field office responsible for this designation. You may obtain field office location information by contacting one of the Service regional offices, the addresses of which are listed at 50 CFR 2.2.

(5) Index map of all critical habitat units for Consolea corallicola follows:

BILLING CODE 4333-15-P

(6) Unit FSC1: Swan Key, Biscayne National Park, Miami-Dade County, Florida.

(i) General Description: Unit FSC1 consists of 37 ac (15 ha) in Miami-Dade County. This unit is composed entirely of lands in Federal ownership, 100 percent of which are located on Swan Key within Biscayne National Park. The unit includes all upland rockland hammock habitat on Swan Key, most of which is located on the eastern side of Swan Key, surrounded by the island's mangrove fringe. A second, smaller area is located on the island's elongate western half and is also surrounded by mangroves.

(ii) Map of Unit FSC1 follows:

(7) Unit FSC2: Key Largo, Monroe County, Florida.

(i) General Description: Unit FSC2 consists of 3,434 ac (1,389 ha) in Monroe County. This unit is composed of Federal lands within Crocodile Lake National Wildlife Refuge (NWR) (702 ac (284 ha)); State lands within Dagny Johnson Botanical State Park, John Pennekamp Coral Reef State Park, and the Florida Keys Wildlife and Environmental Area (2,331 ac (943 ha)); lands owned by Monroe County (17 ac (7 ha)); and parcels in private or other ownership (384 ac (155 ha)). This unit extends from near the northern tip of Key Largo, along the length of Key Largo, beginning at the south shore of Ocean Reef Harbor near South Marina Drive and the intersection of County Road (CR) 905 and Clubhouse Road on the west side of CR 905, and between CR 905 and Old State Road 905, then extending to the shoreline south of South Harbor Drive. The unit then continues on both sides of CR 905 through the Crocodile Lake NWR, Dagny Johnson Key Largo Hammock Botanical State Park, and John Pennekamp Coral Reef State Park. The unit then terminates near the junction of U.S. 1 and CR 905 and Garden Cove Drive. The unit resumes on the east side of U.S. 1 from South Andros Road to Key Largo Elementary; then from the intersection of Taylor Drive and Pamela Street to Avenue A, then from Sound Drive to the intersection of Old Road and Valencia Road, then resumes on the east side of U.S. 1 from Hibiscus Lane and Ocean Drive. The unit continues south near the Port Largo Airport from Poisonwood Road to Bo Peep Boulevard. The unit resumes on the west side of U.S. 1 from the intersection of South Drive and Meridian Avenue to Casa Court Drive. The unit then continues on the west side of U.S. 1 from the point on the coast directly west of Peace Avenue south to Caribbean Avenue. The unit also includes a portion of the barrier island (El Radabob Key) in Largo Sound located directly east of Avenue A, extending south to a point directly east of Mahogany Drive.

(ii) Index map of Unit FSC2 follows:

(iii) Map A of Unit FSC2 follows:

(iv) Map B of Unit FSC2 follows:

(v) Map C of Unit FSC2 follows:

(vi) Map D of Unit FSC2 follows:

(vii) Map E of Unit FSC2 follows:

(viii) Map F of Unit FSC2 follows:

(8) Unit FSC3: Big Pine Key, Monroe County, Florida.

(i) General Description: Unit FSC3 consists of 772 ac (313 ha) in Monroe County. This unit is composed of Federal land within the National Key Deer Refuge (NKDR) (508 ac (205 ha)), State land managed as part of the NKDR (172 ac (70 ha)), lands owned by Monroe County (11 ac (5 ha)), and parcels in private or other ownership (81 ac (33 ha)). This unit extends from near the northern tip of Big Pine Key along the eastern shore to the vicinity of Hellenga Drive and Watson Road; from Gulf Boulevard south to West Shore Drive; Big Pine Avenue and Elma Avenues on the east, Coral and Yacht Club Road, and U.S. 1 on the north, and Industrial Avenue on the east from the southeastern tip of Big Pine Key to Avenue A.

(ii) Index map of Unit FSC3 follows:

(iii) Map A of Unit FSC3 follows:

(iv) Map B of Unit FSC3 follows:

(v) Map C of Unit FSC3 follows:

(vi) Map D of Unit FSC3 follows:

(vii) Map E of Unit FSC3 follows:

(9) Unit FSC4: Little Torch Key, Monroe County, Florida.

(i) General Description: Unit FSC4 consists of 168 ac (68 ha) in Monroe County. This unit is composed of State lands (47 ac (19 ha)), lands owned by Monroe County (10 ac (4 ha)), and parcels in private and other ownership (111 ac (45 ha)). This unit extends along State Highway 4A, from Coral Shores Road, south to County Road, resuming at Linda Street and extending south to the Overseas Highway. South of the Overseas Highway, the unit includes areas west of Kings Cove Road, and an area comprising the southern tip of Little Torch Key that includes portions of the John J. Pescatello Torchwood Hammock Preserve.

(ii) Index map of Unit FSC4 follows:

(iii) Map A of Unit FSC4 follows:

(iv) Map B of Unit FSC4 follows:

* * * * *

Family Cactaceae: Harrisia aboriginum (aboriginal prickly-apple)

(1) Critical habitat units for Harrisia aboriginum are depicted for Manatee, Charlotte, Sarasota, and Lee Counties, Florida, on the maps below.

(2) Within these areas, the primary constituent elements of the physical or biological features essential to the conservation of Harrisia aboriginum are:

(i) Areas of upland habitats consisting of coastal strand, coastal grassland, coastal berm, maritime hammocks, and shell mounds.

(A) Coastal strand habitat that contains:

(1) Open to semi-open canopy and understory, and

(2) Substrate of sand and shell fragments of stabilized coastal dunes.

(B) Coastal grassland habitat that contains:

(1) No canopy and an open understory, and

(2) Substrate of sand and shell fragments.

(C) Coastal berm habitat that contains:

(1) Open to semi-open canopy, subcanopy, and understory, and

(2) Substrate of coarse, calcareous, storm-deposited sediment.

(D) Maritime hammock habitat that contains:

(1) Canopy gaps and edges with an open to semi-open canopy, subcanopy, and understory; and

(2) Substrate of calcareous sand and shell fragments.

(E) Shell mound habitat that contains:

(1) Open to semi-open canopy and understory, and

(2) Substrate of soil derived from calcareous shells deposited by Native Americans during prehistoric times.

(ii) A plant community of predominately native vegetation with no invasive, nonnative animal or plant species or such species in quantities low enough to have minimal effect on survival of Harrisia aboriginum.

(iii) Canopy openings in coastal strand, coastal grassland, coastal berm, maritime hammock, and shell mound habitats that are created by the effects of strong winds or saltwater inundation from storm surge or infrequent tidal inundation.

(iv) Habitats that are connected and of sufficient size to sustain viable populations in coastal strand, coastal grassland, coastal berm, maritime hammock, and shell mound habitats.

(v) Habitats that provide populations of the generalist pollinators that visit the flowers of Harrisia aboriginum.

(3) Critical habitat does not include manmade structures (such as buildings, aqueducts, runways, roads, and other paved areas) and the land on which they are located that exists within the legal boundaries on February 22, 2016.

(4) Critical habitat map units. Unit maps were developed using ESRI ArcGIS mapping software along with various spatial data layers. ArcGIS was also used to calculate area. The projection used in mapping and calculating distances and locations within the units was North American Albers Equal Area Conic, NAD 83. The maps in this entry, as modified by any accompanying regulatory text, establish the boundaries of the critical habitat designation. The coordinates or plot points or both on which each map is based are available to the public at the Service's Internet site at http://www.fws.gov/verobeach/, at http://www.regulations.gov at Docket No. FWS-R4-ES-2014-0057, and at the field office responsible for this designation. You may obtain field office location information by contacting one of the Service regional offices, the addresses of which are listed at 50 CFR 2.2.

(5) Index map of all critical habitat units for Harrisia aboriginum follows:

(6) Unit APA1: Terra Ceia, Manatee County, Florida.

(i) General Description: Unit APA1 consists of approximately 222 ac (90 ha) in Manatee County, Florida. This unit is composed of State lands within Madira Bickel Mound State Historical Park, Terra Ceia Preserve State Park, Cockroach Bay State Buffer Preserve, and the Tampa Bay Estuarine System (66 ac (27 ha)); Manatee County lands at Emerson Point Preserve and parcels owned by the Manatee County Port Authority (70 ac (28 ha)); and parcels in private or other ownership (87 ac (35 ha)). This unit includes lands west of Highway 41 extending from just south of South Dock Street south to Snead Island. The unit also includes areas of Harbor Key, Mariposa Key, Horseshoe Key, Joe Island, Skeet Key, Paradise Island, Ed's Key, and Rattlesnake Key.

(ii) Index map of Unit APA1 follows:

(iii) Map A of Unit APA1 follows:

(iv) Map B of Unit APA1 follows:

(7) Unit APA2: Longboat Key, Sarasota County, Florida.

(i) General description: Unit APA2 consists of approximately 54 ac (22 ha) in Sarasota County, Florida. This unit is composed entirely of parcels in private or other ownership. This unit includes lands west of Gulf of Mexico Drive, extending from 0.40 mi (0.6 km) south of the intersection of Bay Isles Parkway and Gulf of Mexico Drive, to the southern tip of Longboat Key. It also includes lands on the north side of Gulf of Mexico Drive, east of Longboat Club Key Drive, on the northwest tip of Longboat Key.

(ii) Map of Unit APA2 follows:

(8) Unit APA3: Osprey, Sarasota County, Florida.

(i) General Description: Unit APA3 consists of approximately 116 ac (47 ha) in Sarasota County, Florida. This unit is composed of Sarasota County lands within Palmer Point County Park (50 ac (20 ha)) and parcels in private or other ownership (66 ac (27 ha)). This unit extends along the barrier island (Casey Key) from the south terminus of Blind Pass Road, south for approximately 1.2 mi (1.9 km) along North Casey Key Road. On the mainland, the unit includes lands bordered on the north by Vamo Way, to the east by Highway 41, and to the south by Palmetto Avenue.

(ii) Map of Unit APA3 follows:

(9) Unit APA4: Manasota Key, Sarasota and Charlotte Counties, Florida.

(i) General Description: Unit APA4 consists of approximately 415 ac (168 ha) in Sarasota and Charlotte Counties, Florida. This unit is composed of State lands within Stump Pass Beach State Park (58 ac (23 ha)); County lands within Blind Pass Park, Brohard Beach and Paw Park, Manasota Beach Park, Casperson Beach Park, and Service Club Park (111 ac (45 ha)); and parcels in private or other ownership (245 ac (99 ha)). This unit extends from Beach Road in the City of Venice, south along Manasota Key to the barrier islands southern tip, including a portion of Peterson Island.

(ii) Index map of Unit APA4 follows:

(iii) Map A of Unit APA4 follows:

(iv) Map B of Unit APA4 follows:

(v) Map C of Unit APA4 follows:

(10) Unit APA5: Charlotte Harbor, Charlotte County, Florida.

(i) General Description: Unit APA5 consists of 51 ac (21 ha) in Charlotte County, Florida. This unit is composed entirely of State lands within the Charlotte Harbor Preserve State Park. This unit includes the Big Mound, Boggess Ridge, and a shell mound located on the east side of Charlotte Harbor, south of the City of Charlotte Park.

(ii) Map of Unit APA5 follows:

(11) Unit APA6: Gasparilla North, Charlotte and Lee Counties, Florida.

(i) General Description: Unit APA6 consists of approximately 98 ac (40 ha) in Charlotte and Lee Counties, Florida. This unit is composed of State land (0.006 ac (0.02 ha)), county land (22 ac (9 ha)), and parcels in private or other ownership (77 ac (31 ha)). This unit includes most of Kitchen Key (Live Oak Key) and the area east of Gasparilla Road, from the intersection of Grouper Hole Road and Grouper Hole Court, south to 0.15 mi (0.24 km) north of Snail Island Court, from approximately 0.10 mi (0.21 km) south of 35th Street to 23rd Street, including the small island separated from Gasparilla Island by a canal; and from 22nd Street to 20th Street.

(ii) Map of Unit APA6 follows:

(12) Unit APA7: Gasparilla South, Lee County, Florida.

(i) General Description: Unit APA7 consists of approximately 92 ac (37 ha) in Lee County, Florida. This unit is composed of Federal land owned by the Service and Bureau of Land Management (3 ac (1 ha)), State lands within Gasparilla Island State Park (69 ac (28 ha)), Lee County lands (12 ac (5 ha), and parcels in private or other ownership (8 ac (3 ha)). This unit includes lands located from south of 1st Street to the southern tip of Gasparilla Island.

(ii) Map of Unit APA7 follows:

(13) Unit APA8: Cayo Pelau, Lee County, Florida.

(i) General Description: Unit APA8 consists of approximately 25 ac (10 ha) in Charlotte and Lee Counties, Florida. This unit is composed of Lee County lands within Cayo Pelau Preserve, and parcels in private or other ownership (0.6 ac (0.2 ha)). This unit includes lands located from 0.13 mi (0.21 km) south of the northern tip of Cayo Pelau, extending south to the southeastern tip of Cayo Pelau.

(ii) Map of Unit APA8 follows:

(14) Unit APA9: Cayo Costa, Lee County, Florida.

(i) General Description: Unit APA9 consists of approximately 1,702 ac (689 ha) in Lee County, Florida. This unit is composed of State lands within Cayo Costa State Park (1,379 ac (558 ha)), lands owned by Lee County (94 ac (38 ha)), and parcels in private or other ownership (230 ac (93 ha)). This unit includes lands located from the northern tip to the southern tip of Cayo Costa.

(ii) Map of Unit APA9 follows:

(15) Unit APA10: Bocilla, Lee County, Florida.

(i) General Description: Unit APA10 consists of approximately 33 ac (13 ha) in Lee County, Florida. This unit is composed of Lee County lands within the Bocilla Preserve (32 ac (13 ha)) and parcels in private or other ownership (0.7 ac (0.3 ha)). This unit includes lands located on the undeveloped portion of Bokeelia Island from 0.02 mi (0.03 km) west of the terminus of Ebbtide Way, extending south and west to the northwestern and southeastern corners of Bokeelia Island.

(ii) Map of Unit APA10 follows:

(16) Unit APA11: Sanibel Island and Buck Key, Lee County, Florida.

(i) General Description: Unit APA11 consists of approximately 635 ac (257 ha) in Lee County, Florida. This unit is composed of Federal lands owned by the Bureau of Land Management, and Service lands within the J.N. `Ding' Darling National Wildlife Refuge (NWR) (373 ac (151 ha)), State lands (47 ac (19 ha)), lands owned by Lee County (90 ac (36 ha)), and parcels in private or other ownership (126 ac (51 ha)). This unit includes lands on Buck Key, Runyan Key, and Sanibel Island. On Sanibel Island, the unit includes a portion of Bowman's Beach, from just south of Silver Key to the western terminus of Water's Edge Lane; uplands within J.N. `Ding' Darling NWR; and a shell mound located near the northern terminus of Tarpon Bay Road.

(ii) Index map of Unit APA11 follows:

(iii) Map A of Unit APA11 follows:

(iv) Map B of Unit APA11 follows:

(v) Map C of Unit APA11 follows:

* * * * *

Dated: January 6, 2016.
Karen Hyun,
Acting Principal Deputy Assistant Secretary for Fish and Wildlife and Parks.

[FR Doc. 2016-01141 Filed 1-21-16; 8:45 am]

BILLING CODE 4333-15-C